POSTAL SERVICE

39 CFR Part 111

New Mailing Standards for Domestic Mailing Services Products

AGENCY: Postal Service™.

ACTION: Proposed rule.

SUMMARY: On April 9, 2024, the Postal Service (USPS®) filed a notice of mailing services price adjustments with the Postal Regulatory Commission (PRC), effective July 14, 2024. This proposed rule contains the revisions to Mailing Standards of the United States Postal Service, Domestic Mail Manual (DMM®) that we would adopt to implement the changes coincident with the price adjustments.

DATES: Submit comments on or before May 16, 2024.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “July 2024 Domestic Mailing Services Proposal.” Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Steven Mills at (202) 268-7433 or Doriane Harley at (202) 268-2537.

SUPPLEMENTARY INFORMATION: All submitted comments and attachments are part of the public record and subject to disclosure. Do not enclose any material in your comments that you consider to be confidential or inappropriate for public disclosure.

Proposed prices will be available under Docket No. R2024-2 on the Postal Regulatory Commission's website at www.prc.gov.

The Postal Service's proposed rule includes changes to prices, mail classification updates, product simplification efforts, and revisions to the DMM.

Different Additional Ounce Rates for First-Class Mail® Flats

Currently, First-Class Mail® flats incur a first ounce price and a uniform additional ounce price that is applied at each level from the second to the thirteenth ounce.

The Postal Service is proposing a change that will allow the Pricing department to provide a distinct price at each ounce increment.

USPS Marketing Mail Flat-Shaped—Separating Lightweight and Heavyweight Rate Categories

The Postal Service is proposing to divide some USPS Marketing Mail flat-shaped pieces into two distinct pricing categories, lightweight (0 to 4 ounces) and heavyweight (from above 4 ounces up to 16 ounces). Lightweight pieces will continue to have only a piece-price component, with dropship discounts available for different entry points. Heavyweight pieces will have per-piece and per-pound price components, the per-pound components apply to the entire weight of the piece, with per-pound dropship discounts available for different entry points.

Business Reply Mail (BRM) Simplification

The Postal Service is proposing to incentivize Qualified Business Reply Mail (QBRM) customers to enroll in Intelligent Mail Barcode Accounting (IMbA) by waiving annual account maintenance and quarterly fees and by reducing the per-piece fee. Customers who link current QBRM permits to an Enterprise Payment Account (EPA) and successfully complete the onboarding process will have subsequent annual and quarterly fees waived and receive a reduced QBRM IMbA per-piece fee.

Elimination of Simple Samples (Product Samples)

Simple Samples, also referred to as Product Samples, is a type of Marketing Parcel created to allow mailers to distribute sample-size products weighing up to 16 ounces in “targeted or every door” areas without the use of outer packaging.

The Postal Service is proposing to eliminate this product offering due to low customer usage. Alternative, economical products are available.

Catalog Price Incentive—Marketing Mail and Bound Printed Matter

The Postal Service is proposing to revise the mailpiece requirements for catalogs and to offer a price incentive to mailers who mail catalogs that meet these revised requirements. The incentive and revisions would apply to all USPS Marketing Mail products except for EDDM-Retail and to Bound Printed Matter flats and parcels.

Enlarge Maximum Size for Plus One

Currently, the maximum size for Plus One mailpieces is 6″x9.5″.

The Postal Service is proposing to increase the maximum size for Plus One mailpieces to 6″x11″.

Adding Optional Preparation Standards to USPS Marketing Mail Carrier Route Automation Letters

The Postal Service is proposing to create an optional tray preparation for High Density and High Density Plus letters. This optional tray preparation would allow mail preparers to combine multiple mail owner's eligible HD and HD+ letters with 5-digit letters in one tray to reduce the volume of residual trays entered in the mailstream.

Matching Nomenclature & Classification Standards to Network Redesign

New Network Future State Nomenclature Mapping—Under Phase 1 of the Postal Service network future state, the Postal Service is revising the DMM to provide site mapping nomenclature for facilities (e.g., NDC/RPDC). Phase 1 will not include site mapping in the Quick Service Guides (QSGs) or revisions to destination entry pricing nomenclature or labeling lists.

In some cases where there is overlapping of nomenclature in the DMM for market dominant and competitive products (e.g., DMM 705.8.0) the site mapping nomenclature will be included in the Federal Register Notice for the domestic competitive products price change.

2025 Promotions

The Postal Service has been incenting mailers to integrate mobile technology and use innovative print techniques in commercial mail since 2012. These promotions have become an integral way for industry to try new things and innovate their mail campaigns. A 2025 Promotions Calendar is planned with opportunities for mailers to receive a postage discount by applying treatments or integrating technology in their mail campaigns.

Mail Growth Incentives Continuation in Calendar Year 2025

For calendar year 2024, the Postal Service introduced two new incentives designed to promote the growth of First-Class Mail® (the “First-Class Mail Growth Incentive”) and USPS Marketing Mail® (the “Marketing Mail Growth Incentive”). The effective dates of both incentives is January 1, 2024 through December 31, 2024.

The Postal Service is proposing to continue both incentives for calendar year 2025.

These proposed revisions will provide consistency within postal products and add value for customers.

Although exempt from the notice and comment requirements of the Administrative Procedure Act (5 U.S.C. 553(b), (c)) regarding proposed rulemaking by 39 U.S.C. 410(a), the Postal Service invites public comments on the proposed revisions to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

100 Retail Mail Letters, Cards, Flats, and Parcels

* * * * *

140 USPS Marketing Mail Flats Every Door Direct Mail-Retail (EDDM-Retail)

* * * * *

145 Mail Preparation

* * * * *

1.0 Preparation of EDDM-Retail Flats

1.1 General Information

[Revise the text of 1.1 to read as follows:]

All pieces mailed as EDDM-Retail mailings must be bundled under 1.3 and presented directly to the correct delivery Post Office or destination delivery unit (DDU)/Sorting & Delivery Center (SDC), or mailed to the DDU/SDC via Priority Mail under 146.

* * * * *

146 Enter and Deposit

* * * * *

1.0 Basic Options

1.1 Entry at Delivery Post Office

[Revise the text of 1.1 to read as follows:]

All EDDM-Retail mailings must be entered directly at the Post Office (or DDU/SDC) responsible for the Post Office Box or carrier route delivery for which the mailing is prepared, or shipped to that Post Office under 1.2.

* * * * *

200 Commercial Mail Letters, Cards, Flats, and Parcels

201 Physical Standards

* * * * *

4.0 Physical Standards for Flats

4.1 General Definition of Flat Size Mail

[Delete item (d) and renumber item (e) as (d):]

* * * * *

[Delete section 201.4.9 titled “Catalogs” in its' entirety]

* * * * *

8.0 Additional Physical Standards by Class of Mail

* * * * *

8.4 USPS Marketing Mail Parcels

* * * * *

8.4.2 Marketing Parcels

* * * * *

[Delete item (e) in its' entirety]

* * * * *

203 Basic Postage Statement, Documentation, and Preparation Standards

* * * * *

3.0 Standardized Documentation for First-Class Mail, Periodicals, USPS Marketing Mail, and Flat-Size Bound Printed Matter

* * * * *

3.2 Format and Content

For First-Class Mail, Periodicals, USPS Marketing Mail, and Bound Printed Matter, standardized documentation includes:

* * * * *

d. For bundles on pallets, list these required elements:

* * * * *

[Revise d(4) to read as follows:]

4. Separate columns with the number of pieces for each price reported in the mailing, and a continuous running total of pieces (group information either in ZIP Code order and by sortation level or by sortation level and within each sortation level, by ZIP Code).

Document SCF/LPC, ADC/RPDC, or NDC/RPDC pallets created as a result of bundle reallocation under 705.8.11, 705.8.12, or 705.8.13 by designating the protected pallet with an identifier of “PSCF” (for an SCF/LPC pallet), “PADC” (for an ADC/RPDC pallet), or “PBMC” (for a NDC/RPDC pallet). These identifiers are required to appear only on the USPS Qualification Report; they are not required on pallet labels or on any other documentation.

* * * * *

3.6 Detailed Entry Listing for Periodicals

* * * * *

3.6.3 Entry Abbreviations

Use the price name or the authorized entry abbreviation in the listings in 3.0 and 207.17.4.2:

[Revise the list in 3.6.3 to read as follows:]

Zone abbreviation | Rate equivalent
ICD | In-County, DDU.
IC | In-County, All Others.
DDU/SDC | Outside-County, DDU.
SCF/LPC (letters/flats) | Outside-County, DSCF.
SCF/RPDC (parcels) | Outside-County, DSCF.
ADC/RPDC | Outside-County, DADC.
OC | Outside-County, All Others.

3.7 Bundle and Container Reports for Outside-County Periodicals Mail

* * * * *

3.7.2 Outside-County Container Report

The container report must contain, at a minimum, the following elements: * * *

[Revise item (d) to read as follows]

d. Container entry level (origin, DDU/SDC, DSCF/LPC (letters/flats), DSCF/RPDC (parcels), DADC/RPDC, or DNDC/RPDC).* * *

* * * * *

4.0 Bundles

* * * * *

4.6 Address Visibility for Flats and Parcels

* * * * *

[Revise item (d) to read as follows:]

d. Bundles of mailpieces at carrier route prices entered at a destination delivery unit (DDU) or Sorting & Delivery Center (SDC).* * *

* * * * *

[Revise the heading of 4.10 to read as follows:]

4.10 Additional Standards for Unsacked/Untrayed Bundles Entered at DDU/SDC Facilities

* * * * *

5.0 Letter and Flat Trays

* * * * *

5.5 Letter Tray Strapping Exception

[Revise the text of 5.5 to read as follows:]

Strapping is not required for any letter tray placed on a 5-digit, 3-digit, or SCF pallet secured with stretchwrap. If the processing and distribution manager gives a written waiver, strapping is not required for any mixed AADC or ADC letter tray of First-Class Mail or for any letter tray that originates and destinates in the same SCF/LPC, ADC, or AADC (mail processing plant) service areas.

5.6 Use of Flat Trays

* * * * *

5.6.2 Preparation for Flats in Flat Trays

All flat tray preparation is subject to these standards: * * *

[Revise 5.6.2(h) to read as follows:]

h. Pieces prepared as automation flats under the tray-based preparation option in 235.8.0 do not have to be grouped by 3-digit ZIP Code prefix in ADC/RPDC trays or by ADC in mixed ADC trays if the mailing is prepared using an MLOCR/barcode sorter and standardized documentation is submitted.

[Revise the first sentence of 5.6.2(i) to read as follows:]

i. When pieces in a Periodicals mailing remain after one or more full trays are prepared for a 5-digit scheme, 5-digit, 3-digit, SCF/LPC, or ADC/RPDC destination, an additional tray to the destination must be prepared if the remaining pieces reach the required volume.* * *

* * * * *

6.0 Sacks

6.1 General Standards

[Revise the introductory text of 6.1 to read as follows:]

Applicable mailings must be prepared in sacks. Containers for Customized MarketMail are specified in 705.1.0. The following additional standards apply: * * *

* * * * *

7.0 Optional Endorsement Lines (OELs)

* * * * *

Exhibit 7.2.5 OEL Labeling Lists

[Revise the text of footnote 2 to read as follows:]

* * * 2. L010 if mail entered by mailer at a destination ASF/RPDC or NDC/RPDC or for mail placed on an ASF/RPDC or NDC/RPDC pallet under 705.8.0.

* * * * *

207 Periodicals

* * * * *

2.0 Price Application and Computation

* * * * *

2.1.4 Applying Pound Price

Apply pound prices to the weight of the pieces in the mailing as follows: * * *

[Revise the text of item (b) to read as follows:]

b. In-County pound prices consist of a DDU/SDC entry price and a non-DDU/SDC entry price for eligible copies delivered to addresses within the county of publication.

* * * * *

2.1.9 Applying Outside-County Container Prices

[Revise the second sentence of 2.1.9 to read as follows:]

* * * The container level is determined by the least-finely presorted bundle that container could contain according to standards (for example, an “SCF/LPC pallet” may contain SCF, 3-digit, 5-digit, and carrier route bundles and would always pay the 3-digit/SCF pallet price).* * *

* * * * *

17.0 Documentation

* * * * *

[Revise the title of 17.4 to read as follows:]

17.4 Detailed Entry Listing for Periodicals

17.4.1 Basic Standards

[Revise the first sentence of 17.4.1 to read as follows:]

The publisher must be able to present documentation that supports the number of copies of each edition of an issue, by entry level, at DDU/SDC, DSCF/LPC (letters/flats), DSCF/RPDC (parcels), DADC, All Others, and In-County prices. * * *

17.4.2 Format

Using one of the following formats, report the number of copies mailed to each 3-digit ZIP Code area at entry prices: * * *

[Revise the first sentence of item (b) to read as follows:]

b. Report copies by zone (In-County DDU/SDC, In-County others, Outside-County DDU/SDC, Outside-County DSCF/LPC (letters/flats), Outside-County DSCF/RPDC (parcels), Outside-County DADC and Outside-County All Others) and by 3-digit ZIP Code, in ascending numeric order, for each entry level.* * *

* * * * *

17.4.3 Entry Abbreviations

Use the price name or the authorized entry abbreviation in the listings in 17.3 and 17.4.2.

[Revise the list in 17.4.3 to read as follows:]

Zone abbreviation | Rate equivalent
ICD | In-County, DDU.
IC | In-County, All Others.
DDU/SDC | Outside-County, DDU.
SCF/LPC (letters/flats) | Outside-County, DSCF.
SCF/RPDC (parcels) | Outside-County, DSCF.
ADC | Outside-County, DADC.
OC | Outside-County, All Others.

* * * * *

18.3 Presort Terms

Terms used for presort levels are defined as follows: * * *

[Revise items (o) through (q) to read as follows:]

o. Origin/entry 3-digit(s): the ZIP Code in the delivery address on all pieces begins with one of the 3-digit prefixes processed at the sectional center facility (SCF)/local processing center (LPC [letters/flats]) or regional processing distribution center (RPDC [parcels]) in whose service area the mail is verified/entered.

p. SCF: the separation includes pieces for two or more 3-digit areas served by the same sectional center facility (SCF)/local processing center (LPC [letters/flats]) or regional processing distribution center (RPDC [parcels]) (see L005).

q. Origin/entry SCF: the separation includes bundles for one or more 3-digit areas served by the same sectional center facility (SCF)/local processing center (LPC [letters/flats]) or regional processing distribution center (RPDC [parcels]) (see L002, Column C, or L005) in whose service area the mail is verified/entered.* * *

18.4 Mail Preparation Terms

For purposes of preparing mail: * * *

[Revise items (r) and (s) to read as follows:]

r. An origin 3-digit (or origin 3-digit scheme) tray/sack contains all mail (regardless of quantity) for a 3-digit ZIP Code (or 3-digit scheme) area processed by the SCF/LPC (letter/flats)/RPDC (parcels) in whose service area the mail is verified. A separate tray/sack may be prepared for each 3-digit ZIP Code (or 3-digit scheme) area.

s. An origin/entry SCF flat tray or sack contains all 5-digit and 3-digit bundles (regardless of quantity) for the SCF/LPC (letter/flats)/RPDC (parcels) in whose service area the mail is verified. At the mailer's option, such a flat tray/sack may be prepared for the SCF/LPC/RPDC area of each entry Post Office. This presort level applies only to nonletter-size Periodicals prepared in flat trays/sacks.* * *

[Revise text of item (v) to read as follows:]

v. Entry [facility] (or origin [facility]) refers to the USPS mail processing facility (for example, “entry SCF/LPC/RDPC”) that serves the Post Office at which the mail is entered by the mailer. If the Post Office where the mail is entered is not the one serving the mailer's location (such as for plant-verified drop shipment), the Post Office of entry determines the entry facility.* * *

[Revise item aa(1) to read as follows]

aa. Machinable flats are:

1. Flat-size pieces meeting the standards in 201.6.0 that are sorted into 5-digit, 3-digit, ADC/RPDC, and mixed ADC bundles. These pieces are compatible with processing on the AFSM 100.* * *

* * * * *

20.0 Sacks and Trays

20.1 Basic Standards

20.1.1 General

[Revise 20.1.1 to read as follows:]

Mailings must be prepared in letter trays (letters), flat trays (flats) under 22.7 and 25.5, or sacks (carrier route, 5-digit scheme cr-rt and 5-digit cr-rt flats, nonpalletized residual 5-digit flats entered at a DDU/SDC along with carrier route flats, nonpalletized carrier route flats entered at the DSCF/LPC (origin), nonpalletized 5-digit flats entered at the DSCF/LPC (origin), and nonpalletized 3-digit/SCF flats entered at the DSCF/LPC (origin), and all periodicals parcels). DSCF/LPC (origin) 5-digit and 3-digit/SCF sacks must be entered at the BMEU and emptied into a designated container. Palletized mail is subject to 705.8.0. See 203.5.0 and 203.6.0 for tray and sack standards.

20.1.2 Origin/Entry 3-Digit/Scheme Trays

[Revise 20.1.2 to read as follows:]

For letter-size Periodicals, after all finer sort levels are prepared, an origin/entry 3-digit (or for barcoded letters, 3-digit scheme) tray must be prepared for any remaining mail for each 3-digit (or 3-digit scheme) area serviced by the SCF/LPC serving the origin Post Office, and may be prepared for each 3-digit (or 3-digit scheme) area served by the SCF/LPC where mail is entered (if different).

20.1.3 Flats and Irregular Parcels—Origin/Entry SCF Sacks

[Revise 20.1.3 to read as follows:]

For flats and irregular parcels, after all finer sort levels are prepared, an origin/entry SCF sack or flat tray (for flats) must be prepared for any remaining bundles for the 3-digit ZIP Code area(s) serviced by the SCF/LPC (letters/flats)/RPDC (parcels) serving the origin Post Office, and may be prepared for the area served by the SCF/LPC/RPDC/plant where mail is entered (if different).

* * * * *

22.0 Preparing Nonbarcoded (Presorted) Periodicals

* * * * *

22.4 Bundles With Fewer Than Six Pieces

Nonletter-size Periodicals may be prepared in 5-digit and 3-digit bundles containing fewer than six pieces at the publisher's option. Pieces in these low-volume bundles must be claimed at the mixed ADC price (Outside-County) or basic price (In-County). Low-volume bundles are permitted only when sacked or prepared on pallets as follows:

[Revise items (a) and (b) to read as follows:]

a. Place bundles in only 5-digit, 3-digit, and SCF/LPC flat trays that contain at least 24 pieces, or in origin/entry SCF/LPC flat trays, as appropriate.

b. Place bundles on only merged 5-digit scheme, 5-digit scheme, merged 5-digit, 5-digit, 3-digit, and SCF/LPC pallets.

* * * * *

22.6 Sack Preparation

[Revise the introductory paragraph of 22.6 to read as follows:]

Sack preparation is allowed only for the following: Parcels; Nonpalletized residual 5-digit flats entered at a DDU/SDC along with carrier route flats; Nonpalletized carrier route flats entered at the DSCF/LPC (origin); Nonpalletized 5-digit flats entered at the DSCF/LPC (origin); and nonpalletized 3-digit/SCF flats entered at the DSCF/LPC (origin). DSCF/LPC (origin) 5-digit and 3-digit/SCF sacks must be entered at the BMEU and emptied into a designated container. For mailing jobs that also contain a barcoded mailing, see 22.1.2. For other mailing jobs, preparation sequence, sack size, and labeling: * * *

[Revise the first sentence of item (c) to read as follows:]

c. SCF/LPC, required at 72 pieces, optional at 24 pieces minimum.* * *

[Revise the first sentence of item (d) to read as follows:]

d. Origin/entry SCF/LPC, required for the SCF/LPC of the origin (verification) office, optional for the SCF/LPC of an entry office other than the origin office, (no minimum).* * *

[Revise the first sentence of item (e) to read as follows:]

e. ADC/RPDC, required at 72 pieces, optional at 24 pieces minimum.* * *

* * * * *

22.7 Tray Preparation—Flat-Size Nonbarcoded Pieces

[Revise the introductory paragraph of 22.7 to read as follows:]

Mailers must place machinable and nonmachinable (26.0) flat-sized pieces in flat trays (203.5.6) instead of sacks, unless prepared as the following: Direct carrier route; 5-digit scheme carrier route; 5-digit carrier route (23.4.1, 705.9.0 and 705.10.0); Nonpalletized residual 5-digit entered at a DDU/SDC along with carrier-route flats; Nonpalletized 5-digit flats entered at the DSCF/LPC (origin); or nonpalletized 3-digit/SCF entered at the DSCF/LPC (origin). Bundling in flat trays is optional, and any bundles must be trayed and labeled separately from loose flats prepared in flat trays. The trays are subject to a container charge and any bundles are subject to a bundle charge. Tray preparation, sequence, and labeling: * * *

[Revise the first sentence of item (d) to read as follows:]

d. SCF/LPC, required at 72 pieces, optional at 24 pieces minimum.* * *

[Revise the first sentence of item (e) to read as follows:]

e. Origin SCF/LPC (required) and entry SCF/LPC(s) (optional), no minimum, labeling: * * *

[Revise the first sentence of item (f) to read as follows:]

f. ADC/RPDC, required at 72 pieces, optional at 24 pieces minimum.* * *

* * * * *

23.0 Preparing Carrier Route Periodicals

* * * * *

23.4 Preparation—Flat-Size Pieces and Irregular Parcels

* * * * *

23.4.2 Exception to Flat Traying and Sacking

[Revise the first sentence of 23.4.2 to read as follows:]

Sacking or traying is not required for carrier route bundles entered at a DDU/SDC when the mailer unloads bundles under 29.6.5.* * *

* * * * *

23.6 Bundles With Fewer Than Six Pieces

[Revise item 23.6(b) to read as follows:]

b. Place bundles on only merged 5-digit scheme, 5-digit scheme carrier routes, merged 5-digit, 5-digit carrier routes, 3-digit, and SCF/LPC pallets.

* * * * *

25.0 Preparing Flat-Size Barcoded (Automation) Periodicals

25.1 Basic Standards

* * * * *

25.1.7 Exception—Barcoded and Nonbarcoded Flats on Pallets

[Revise the last sentence of 25.1.7(c) to read as follows:]

c. * * * The nonbarcoded price pieces that cannot be placed on ADC/RPDC or finer pallets may be prepared as flats in flat trays and paid for at nonbarcoded prices.

25.1.8 Bundles With Fewer Than Six Pieces

5-digit scheme, 5-digit, 3-digit scheme, and 3-digit bundles may contain fewer than six pieces at the publisher's option. Pieces in these low-volume bundles must be claimed at the applicable mixed ADC price (Outside-County) or basic price (In-County). These low-volume bundles are permitted only when they are sacked or prepared on pallets under these conditions:

[Revise items 25.1.8(a) through (d) to read as follows:]

a. Place 5-digit and 3-digit bundles in only 5-digit scheme, 5-digit, 3-digit, and SCF/LPC flat trays, as appropriate, that contain at least 24 pieces, or in merged 3-digit flat trays that contain at least one 6-piece carrier route bundle, or in origin/entry SCF/LPC flat trays.

b. Place 5-digit and 3-digit bundles on only merged 5-digit scheme, 5-digit scheme, merged 5-digit, 5-digit, 3-digit, and SCF/LPC pallets, as appropriate.

c. Place 5-digit scheme and 3-digit scheme bundles in only 5-digit scheme, 3-digit, and SCF/LPC flat trays, as appropriate, that contain at least 24 pieces, or in merged 3-digit flat trays that contain at least one 6-piece carrier route bundle, or in origin/entry SCF/LPC flat trays.

d. Place 5-digit scheme and 3-digit scheme bundles on only 3-digit and SCF/LPC pallets, as appropriate.

* * * * *

25.4 Sacking and Labeling

[Revise the introductory paragraph of 25.4 to read as follows:]

Sack preparation is allowed only for nonpalletized residual 5-digit flats entered at a DDU/SDC along with carrier route flats, nonpalletized 5-digit flats entered at the DSCF/LPC (origin), and nonpalletized 3-digit/SCF flats entered at the DSCF/LPC (origin). DSCF/LPC (origin) 5-digit and 3-digit/SCF sacks must be entered at the BMEU and emptied into a designated container. For mailing jobs that also contain a machinable nonbarcoded price mailing, see 25.1.9 and 705.9.0. Other mailing jobs are prepared, sacked, and labeled as follows: * * *

[Revise the first sentence of item (c) to read as follows:]

c. SCF/LPC, required at 72 pieces, optional at 24 pieces; fewer pieces not permitted; labeling: * * *

[Revise the first sentence of item (d) to read as follows:]

d. Origin SCF/LPC (required) and entry SCF/LPC(s) (optional), no minimum; labeling: * * *

[Revise the first sentence of item (e) to read as follows:]

a. ADC/RPDC, required at 72 pieces, optional at 24 pieces; fewer pieces not permitted; labeling: * * *

* * * * *

25.5 Tray Preparation—Flat-Size Barcoded Pieces

[Revise the introductory paragraph of 25.5 to read as follows:]

Mailers must place machinable flats (under 201.6.0) in flats trays (see 24.0) instead of sacks, unless prepared as the following: Direct carrier route; 5-digit scheme carrier route; 5-digit carrier route; Nonpalletized residual 5-digit and entered at a DDU/SDC along with carrier route flats; Nonpalletized 5-digit flats entered at the DSCF/LPC (origin); or nonpalletized 3-digit/SCF entered at the DSCF/LPC (origin). Mailers must group together all pieces for each 5-digit scheme, 5-digit, 3-digit scheme, 3-digit, SCF/LPC, and ADC/RPDC destination. Bundling in flat trays is optional, and any bundles must be trayed and labeled separately from loose flats prepared in flat trays. The trays are subject to a container charge, and any bundles are subject to a bundle charge. Tray preparation, sequence, and labeling: * * *

[Revise the first sentence of item (d) to read as follows:]

d. SCF/LPC (required), 72-piece minimum, optional at 24 pieces, fewer pieces not permitted; labeling: * * *

[Revise the first sentence of item (e) to read as follows:]

e. Origin SCF/LPC (required) and entry SCF/LPC(s) (optional), no minimum, labeling: * * *

[Revise the first sentence of item (f) to read as follows:]

f. ADC/RPDC (required), 72-piece minimum, optional at 24 pieces, fewer pieces not permitted, no overflow tray allowed; labeling: * * *

* * * * *

28.0 Enter and Deposit

* * * * *

28.3 Exceptional Dispatch

* * * * *

28.3.2 Intended Use

[Revise the first sentence of 28.3.2 to read as follows:]

The provision for exceptional dispatch is intended for local distribution (In-County and DDU/SDC) of publications with total circulation of no more than 25,000 and is not to be used to circumvent additional entry standards.* * *

* * * * *

29.0 Destination Entry

* * * * *

[Revise the heading of 29.2 to read as follows:]

29.2 Destination Network Distribution Center/Regional Processing Distribution Center

29.2.1 Definition

[Revise item 29.2.1 to read as follows:]

For this standard, destination network distribution center (DNDC)/Regional Processing Distribution Center (RPDC) includes the facilities and ZIP Code ranges as noted in L601 and L602, or a USPS-designated facility.

29.2.2 Price Eligibility

DNDC container prices apply as follows: * * *

[Revise items (a) and (b) to read as follows:]

a. Pieces must be prepared in bundles or in sacks or trays on ADC/RPDC or more finely presorted pallets under 705.8.0.

b. Mailers may claim a DNDC container price if the facility ZIP Code (on Line 1 of the container label) is within the service area of the NDC/RPDC or ASF at which the container is deposited, under L601 and L602.

29.3 Destination Area Distribution Center

* * * * *

29.3.2 Price Eligibility

Determine price eligibility as follows:

[Revise items (a) and (b) to read as follows:]

a. Pound Prices. Outside-County pieces are eligible for DADC pound prices when placed on an ADC/RPDC or more finely presorted container, deposited at an ADC/RPDC (or USPS-designated facility), and addressed for delivery to one of the 3-digit ZIP Codes served by the facility where deposited. Automation pieces in AADC trays placed on optional SCF/LPC pallets under 705.8.10.2 are eligible for DADC prices when the 3-digit ZIP Code on the tray label is within that SCF/LPC/RPDC's service area according to L005.

b. Pieces must be prepared in bundles or in sacks or trays on ADC/RPDC or more finely presorted pallets under 705.8.0.

* * * * *

[Revise the heading of 29.4 to read as follows:]

29.4 Destination Sectional Center Facility/Local Processing Center

29.4.1 Definition

[Revise 29.4.1 to read as follows:]

For this standard, destination sectional center facility (DSCF)/local processing center (LPC [letter/flats])/regional processing distribution center (RPDC [parcels]) includes the facilities listed in L005, or a USPS-designated facility.

29.4.2 Price Eligibility

Determine price eligibility as follows:

[Revise items (a) through (c) to read as follows:]

a. Pound Prices. Outside-County pieces are eligible for DSCF pound prices when placed on an SCF or more finely presorted container, deposited at the DSCF/LPC (letter/flats)/RPDC (parcels) or USPS-designated facility (see also 29.4.2b), and addressed for delivery within the DSCF/LPC/RDPC's service area. Nonletter-size pieces are also eligible when the mailer deposits 5-digit bundles at the destination delivery unit (DDU)/sorting & delivery center (SDC) (the facility where the carrier cases mail for delivery to the addresses on the pieces) and the 5-digit bundles are in or on the following types of containers:

1. A merged 5-digit scheme or merged 5-digit sack/flat tray.

2. A merged 5-digit scheme, merged 5-digit, or 5-digit scheme pallet.

b. Container Prices. Mailers may claim the DSCF container price for SCF and more finely presorted containers that are entered at and destined within the service area of the SCF/LPC/RPDC at which the container is deposited.

c. Nonpalletized carrier route, 5-digit scheme carrier route, 5-digit carrier route, 5-digit, or 3-digit flats may be prepared in sacks when entered at the DSCF/LPC (origin). DSCF/LPC (origin) 5-digit and 3-digit/SCF sacks must be entered at the BMEU and emptied into a designated container.

[Revise the heading of 29.5 to read as follows:]

29.5 Destination Delivery Unit/Sorting & Delivery Center

29.5.1 Definition

[Revise 29.5.1 to read as follows:]

For this standard, the destination delivery unit (DDU)/sorting & delivery center (SDC) is the facility where the carrier cases mail for delivery to the addresses on the pieces in the mailing.

29.5.2 Price Eligibility

Determine price eligibility as follows: * * *

[Revise items (c) and (d) to read as follows:]

c. Container Prices. Outside-County mailers may claim a DDU container price for 5-digit scheme and more finely presorted containers that are entered at and destined within the service area of the DDU/SDC at which the container is deposited.

d. Nonpalletized residual 5-digit flats remaining after a carrier route sortation may be prepared in sacks and deposited at the DDU/SDC along with a carrier route mailing.

* * * * *

29.5.4 Deposit Schedule

[Revise 29.5.4 to read as follows:]

The mailer may schedule deposit of DDU/SDC mailings at least 24 hours in advance by contacting the DDU/SDC or through FAST, available at fast.usps.com. The mailer must follow the scheduled deposit time. The mailer may request standing appointments for renewable 6-month periods by written application to the DDU/SDC. Mixed loads of Periodicals and other classes of mail require advance appointments for deposit. For mail entered under exceptional dispatch, the application for exceptional dispatch required under 28.3 also serves as a request for standing appointments.

* * * * *

235 Mail Preparation

* * * * *

1.0 General Definition of Terms

* * * * *

1.3 Terms for Presort Levels

1.3.1 Letters and Cards

Terms used for presort levels are defined as follows: * * *

[Revise items (f) and (g) to read as follows:]

f. Origin/optional entry 3-digit(s): the ZIP Code in the delivery address on all pieces begins with one of the 3-digit prefixes processed at the sectional center facility (SCF)/local processing center (LPC) in whose service area the mail is verified/entered. Subject to standard, a separation is required for each such 3-digit area regardless of the volume of mail.

g. Origin/optional entry SCF: the separation includes bundles for one or more 3-digit areas served by the same sectional center facility (SCF)/local processing center (LPC) (see L002, Column C, or L005) in whose service area the mail is verified/entered. Subject to standard, this separation is required regardless of the volume of mail.* * *

1.3.2 Flats

Terms used for presort levels are defined as follows: * * *

[Revise items (c) through (e) to read as follows:]

c. Origin/optional entry 3-digit(s): the ZIP Code in the delivery address on all pieces begins with one of the 3-digit prefixes processed at the sectional center facility (SCF)/local processing center (LPC) in whose service area the mail is verified/entered. Subject to standard, a separation is required for each such 3-digit area regardless of the volume of mail.

d. ADC: all pieces are addressed for delivery in the service area of the same area distribution center (ADC)/regional processing distribution center (RPDC) (see L004).

e. Mixed ADC: the pieces are for delivery in the service area of more than one ADC/RPDC.

1.4 Preparation Definitions and Instructions

For purposes of preparing mail: * * *

[Revise items (h) and (i) to read as follows:]

h. An origin 3-digit (or origin 3-digit scheme) tray contains all mail (regardless of quantity) for a 3-digit ZIP Code (or 3-digit scheme) area processed by the SCF/LPC in whose service area the mail is verified. If more than one 3-digit (or 3-digit scheme) area is served, as indicated in L005, a separate tray must be prepared for each. A tray may be prepared for each 3-digit (or 3-digit scheme) area served by the SCF/LPC/plant where mail is entered (if that is different from the SCF/LPC/plant serving the Post Office where the mail is verified). In all cases, only one less-than-full tray may be prepared for each 3-digit (or 3-digit scheme) area.

i. An origin AADC tray contains all mail (regardless of quantity) for an AADC ZIP Code area processed by the AADC or SCF/LPC in whose service area the mail is verified/entered. Only one less-than-full tray may be prepared for each AADC area.* * *

[Revise item (l) to read as follows:]

l. Entry [facility] (or origin [facility]) refers to the USPS mail processing facility that serves the Post Office at which the mail is entered by the mailer. If the Post Office where the mail is entered is not the one serving the mailer's location, the Post Office of entry determines the entry facility. Entry SCF/LPC includes both single-3-digit and multi-3-digit SCFs.

* * * * *

8.0 Preparation of Automation Flats

* * * * *

8.6 First-Class Mail Optional Tray-Based Preparation

Tray size, preparation sequence, and Line 1 labeling: * * *

[Revise item (c) to read as follows:]

c. Origin 3-digit: required for each 3-digit ZIP Code served by the SCF/LPC of the origin (verification) office; no minimum; for Line 1, use L002, Column A for 3-digit destinations.

[Revise the first sentence of item (d) to read as follows:]

d. ADC: required (90-piece minimum); one less-than-full or overflow tray allowed; group pieces by 3-digit ZIP Code prefix; for Line 1, use L004 (ZIP Code prefixes in Column A must be combined and labeled to the corresponding ADC/RPDC destination shown in Column B).* * *

* * * * *

240 Commercial Mail USPS Marketing Mail

243 Prices and Eligibility

Overview

[Delete index listing 8.0 and renumber 9.0 as 8.0]

* * * * *

1.0 Prices and Fees

* * * * *

1.2 USPS Marketing Mail Prices

USPS Marketing Mail prices are applied as follows: * * *

[Add an item (e) to read as follows:]

e. Items qualifying as a catalog under 601.10 are eligible for an incentive discount when appropriately identified on the postage statement and/or the eDoc.

* * * * *

2.0 Content Standards for USPS Marketing Mail

2.1 General

* * * * *

[Add a second sentence to read as follows:]

* * * Mailpieces prepared as catalogs must meet the standards in 601.10.

* * * * *

3.0 Basic Eligibility Standards for USPS Marketing Mail

* * * * *

3.4 IMpb Standards

[Revise the first sentence of 3.4 to read as follows:]

All USPS Marketing Mail parcels must bear an Intelligent Mail package barcode (IMpb) prepared under 204.2.0.* * *

* * * * *

4.0 Price Eligibility for USPS Marketing Mail

4.1 General Information

[Revise the text of 4.1 to read as follows:]

All USPS Marketing Mail prices are presorted prices (including all nonprofit prices). These prices apply to mailings meeting the basic standards in 2.0 through 4.0 and the corresponding standards for Presorted prices, Enhanced Carrier Route prices, and automation prices under 5.0 through 8.0, or Customized MarketMail prices under 243.9.0. Except for Customized MarketMail pieces, destination entry discount prices are available under 246.2.0 through 246.6.0. Nonprofit prices may be used only by organizations authorized by the USPS under 703.1.0. Not all processing categories qualify for every price. Pieces are subject to either a single minimum per piece price or a combined piece/pound price, depending on the weight of the individual pieces in the mailing.

4.2 Minimum Per Piece Prices

The minimum per piece prices (the minimum postage that must be paid for each piece) apply as follows: * * *

[Revise the text of item (c) to read as follows:]

c. Individual prices. There are separate minimum per piece prices for each subclass (Regular, Enhanced Carrier Route, Nonprofit, and Nonprofit Enhanced Carrier Route) and within each subclass for the type of mailing and the level of presort within each mailing. DNDC prices are not available for ZIP Code ranges 006-009, 967-969, and 995-999, as indicated in labeling list L601. Except for Customized MarketMail pieces, discounted per piece prices also may be claimed for destination network distribution center (DNDC), destination sectional center facility (DSCF), and destination delivery unit (DDU)) under 246. DDU prices are available only for mail entered at Enhanced Carrier Route or Nonprofit Enhanced Carrier Route prices. There are also separate prices for Marketing parcels, Nonprofit machinable parcels, and Nonprofit irregular parcels. See 1.0 for individual per piece prices.

* * * * *

4.4 Extra Services for USPS Marketing Mail

* * * * *

4.4.2 Ineligible Matter

Extra services (other than certificate of mailing service) may not be used for any of the following types of USPS Marketing Mail: * * *

[Delete item (d) and renumber item (e) as item (d):]

* * * * *

5.0 Additional Eligibility Standards for Nonautomation USPS Marketing Mail Letters, Flats, and Presorted USPS Marketing Mail Parcels

* * * * *

5.3 Price Application

[Revise the text of 5.3 to read as follows:]

Nonautomation prices for Regular and Nonprofit USPS Marketing Mail apply to mailpieces that meet the eligibility standards in 2.0 through 4.0, and the preparation standards in 245 or 705. Prices for Nonprofit parcels not qualifying as Marketing parcels apply separately to machinable parcels and irregular parcels. When parcels are combined under 245.11.0, 705.6.0, or 705.21.0, all pieces are eligible for the applicable prices when the combined total meets the eligibility standards.

* * * * *

5.4.3 AADC USPS Marketing Mail Letter-Shaped Pieces SCF Pallet Discount Eligibility

[Revise 5.4.3 to read as follows:]

The SCF pallet discount applies to AADC-eligible USPS Marketing Mail letter-shaped pieces that are palletized under 705.8.10.3e and 705.8.10.3f and entered at Origin (None), DNDC/RPDC, or DSCF/LPC entry.

* * * * *

5.5.3 5-Digit USPS Marketing Mail Letter-Shaped Pieces SCF Pallet Discount Eligibility

[Revise 5.5.3 to read as follows:]

The SCF pallet discount applies to 5-digit-eligible pieces that are palletized under 705.8.10.3a to 705.8.10.3f and entered at Origin (None), DNDC/RPDC, or DSCF/LPC entry.

* * * * *

5.5.5 3-Digit USPS Marketing Mail Letter-Shaped Pieces SCF Pallet Discount Eligibility

[Revise 5.5.5 to read as follows:]

The SCF pallet discount applies to 3-digit-eligible USPS Marketing Mail letter-shaped pieces that are palletized under 705.8.10.3e and 705.8.10.3f and entered at Origin (None), DNDC/RPDC, or DSCF/LPC entry.

* * * * *

5.5.7 ADC USPS Marketing Mail Letter-Shaped Pieces SCF Pallet Discount Eligibility

[Revise 5.5.7 to read as follows:]

The SCF pallet discount applies to ADC-eligible USPS Marketing Mail letter-shaped pieces that are palletized under 705.8.10.3e and 705.8.10.3f and entered at Origin (None), DNDC/RPDC, or DSCF/LPC entry.

* * * * *

5.6 Nonautomation Price Application—Flats

* * * * *

5.6.2 5-Digit USPS Marketing Mail Flat-Shaped Pieces SCF Pallet Discount Eligibility

[Revise 5.6.2 to read as follows:]

The SCF pallet discount applies to 5-digit-eligible USPS Marketing Mail flat-shaped pieces that are palletized under 705.8.10.3d, 705.8.10.3e, and 705.8.10.3f and entered at Origin (None), DNDC/RPDC, or DSCF/LPC entry.

* * * * *

5.6.4 3-Digit USPS Marketing Mail Flat-Shaped Pieces SCF Pallet Discount Eligibility

[Revise 5.6.4 to read as follows:]

The SCF pallet discount applies to 3-digit-eligible USPS Marketing Mail flat-shaped pieces that are palletized under 705.8.10.3e and 705.8.10.3f and entered at Origin (None), DNDC/RPDC, or DSCF/LPC entry.

5.6.5 ADC Prices for Flats

ADC prices apply to flat-size pieces:

[Revise item 5.6.5(a) to read as follows:]

a. In a 5-digit/scheme, 3-digit/scheme, or ADC bundle of 10 or more pieces properly placed in an ADC/RPDC flat tray (see 245.1.4).

[Revise item 5.6.5(c) to read as follows:]

c. When palletized under 705.8.0 and 705.10.0 through 705.13.0, in an ADC bundle of 10 or more pieces; properly placed on an ADC/RPDC pallet.

5.6.6 ADC USPS Marketing Mail Flat-Shaped Pieces SCF Pallet Discount Eligibility

[Revise 5.6.6 to read as follows:]

The SCF pallet discount applies to ADC-eligible USPS Marketing Mail flat-shaped pieces that are palletized under 705.8.10.3e and 705.8.10.3f and entered at Origin (None), DNDC/RPDC, or DSCF/LPC entry.

5.6.7 Mixed ADC Prices for Flats

[Revise 5.6.7 to read as follows:]

Mixed ADC prices apply to flat-size pieces in bundles that do not qualify for 5-digit, 3-digit, or ADC prices; placed in mixed ADC flat trays or on ASF/NDC/RPDC, or mixed NDC pallets under 705.8.0.

5.7 Prices for Machinable Parcels

5.7.1 5-Digit Price

[Revise the introductory paragraph of 5.7.1 to read as follows:]

The 5-digit price applies to qualifying machinable parcels that are dropshipped to a DNDC/RPDC (or ASF when claiming DNDC prices), DSCF/RPDC, or DDU/SDC and presented: * * *

[Revise item 5.7.1(c) to read as follows:]

c. As one or more parcels that mailers drop ship to a DDU/SDC under 246.5.2.3. * * *

* * * * *

5.7.2 NDC Price

The NDC price applies to qualifying machinable parcels as follows under either of the following conditions:

[Revise items (a) and (b) to read as follows:]

a. When dropshipped to an ASF/NDC/RPDC and presented:

a. In an ASF/NDC/RPDC sack containing at least 10 pounds of parcels, or

b. On an ASF/NDC/RPDC pallet, according to standards in 705.8.10, or

c. In an NDC/ASF/RPDC container prepared under 705.21.0.

b. When presented at the origin acceptance office on an ASF/NDC/RPDC pallet containing at least 200 pounds of pieces.

5.7.3 Mixed NDC Price

[Revise 5.7.3 to read as follows:]

The mixed NDC price applies to machinable parcels that are not eligible for 5-digit or NDC prices. Place machinable parcels at mixed NDC prices in origin NDC/RPDC sacks or on origin NDC/RPDC pallets, then in mixed NDC sacks or on mixed NDC pallets. See 245.11.3 and 705.8.10.

5.8 Prices for Irregular Parcels and Marketing Parcels

5.8.1 5-Digit Price

[Revise the introductory paragraph of 5.8.1 to read as follows:]

5-digit prices apply to irregular parcels and to Marketing parcels that are dropshipped to a DNDC/RPDC (or ASF when claiming DNDC prices), DSCF/RPDC, or DDU/SDC and presented: * * *

[Revise item 5.8.1(c) to read as follows:]

c. As one or more parcels that mailers drop ship to a DDU/SDC under 246.5.2.2. * * *

* * * * *

5.8.2 SCF Price

[Revise 5.8.2 to read as follows:]

SCF prices apply to irregular parcels and to Marketing parcels that are dropshipped and presented to a DSCF, DNDC, or RPDC:

a. In an SCF/RPDC sack containing at least 10 pounds of parcels.

b. On an SCF/RPDC pallet, according to 705.8.10.

c. In SCF/RPDC containers prepared under 705.21.0.

5.8.3 NDC Price

NDC prices apply to irregular parcels and to Marketing parcels as follows under either of the following conditions:

[Revise items (a) and (b) to read as follows:]

a. When dropshipped to an ASF/NDC/RPDC and presented:

1. In an ASF/NDC/RPDC sack containing at least 10 pounds of parcels, or

2. On an ASF/NDC/RPDC pallet, according to standards in 705.8.10, or

3. In a NDC/ASF/RPDC container prepared under 705.21.0.

b. When presented at the origin acceptance office on an ASF/NDC/RPDC pallet containing at least 200 pounds of pieces.

5.8.4 Mixed NDC Price

[Revise 5.8.4 to read as follows:]

Mixed NDC prices apply to irregular parcels and to Marketing parcels in origin NDC/RPDC or mixed NDC containers that are not eligible for 5-digit, SCF, or NDC prices. Place parcels at mixed NDC prices in origin NDC/RPDC or mixed NDC sacks under 245.11.4.3 or on origin NDC/RPDC or mixed NDC pallets under 705.8.10.

6.0 Additional Eligibility Standards for Enhanced Carrier Route USPS Marketing Mail Letters and Flats

6.1 General Enhanced Carrier Route Standards

* * * * *

6.1.2 Basic Eligibility Standards

All pieces in an Enhanced Carrier Route or Nonprofit Enhanced Carrier Route USPS Marketing Mail mailing must: * * *

[Add an item (j) to read as follows:]

j. Meet the standards in 245.6.10 for High Density and High Density Plus automation letter mailings prepared using the optional 5-digit tray preparation.

* * * * *

6.3 Basic Price Enhanced Carrier Route Standards

* * * * *

6.3.3 Basic Carrier Route USPS Marketing Mail Letter-Shaped Pieces SCF Pallet Discount Eligibility

[Revise 6.3.3 to read as follows:]

The SCF pallet discount applies to Basic Carrier Route-eligible USPS Marketing Mail letter-shaped pieces that are palletized under 705.8.10.3a to 705.8.10.3f and entered at Origin (None), DNDC/RPDC, or DSCF/LPC entry.

* * * * *

6.3.6 Basic Carrier Route USPS Marketing Mail Flat-Shaped Pieces SCF Pallet Discount Eligibility

[Revise 6.3.6 to read as follows:]

The SCF pallet discount applies to Basic Carrier Route-eligible USPS Marketing Mail flat-shaped pieces that are palletized under 705.8.10.3d, 705.8.10.3e, and 705.8.10.3f and entered at Origin (None), DNDC/RPDC, or DSCF/LPC entry.

* * * * *

6.4 High Density and High Density Plus (Enhanced Carrier Route) Standards—Letters

6.4.1 Additional Eligibility Standards for High Density and High Density Plus Prices

[Revise the first sentence of 6.4.1 to read as follows:]

In addition to the general eligibility standards in 6.1, high density and high density plus letter-size mailpieces must be in a full carrier route tray or in a carrier route bundle of 10 or more pieces placed in a 5-digit carrier routes or 3-digit carrier routes tray unless prepared using the standards in 245.6.10. * * *

* * * * *

6.4.3 High Density and High Density Plus USPS Marketing Mail Letter-Shaped Pieces SCF Pallet Discount Eligibility

[Revise 6.4.3 to read as follows:]

The SCF pallet discount applies to High Density- and High Density Plus-eligible USPS Marketing Mail letter-shaped pieces that are palletized under 705.8.10.3a to 705.8.10.3f and entered at Origin (None), DNDC/RPDC, or DSCF/LPC entry.

* * * * *

6.5.3 High Density Carrier Route Bundles on a 5-Digit/Direct Container (High Density-CR Bundles/Container Discount Eligibility)—Flats

[Revise 6.5.3 to read as follows:]

The High Density-CR Bundles/Container discount applies to 125 or more High Density-eligible pieces that are palletized under 705.8.0, 705.10.0, 705.12.0, or 705.13.0 on a 5-digit merged, 5-digit (scheme) merged, 5-digit carrier route, 5-digit carrier routes, or 5-digit scheme carrier route pallet entered at an Origin (None), DNDC/RPDC, DSCF/LPC, or DDU/SDC entry or in a carrier route sack or flat tray under 245.9.7a or 203.5.8 and entered at the DDU/SDC.

6.5.4 High Density Plus Carrier Route Bundles on a 5-Digit/Direct Container (High Density Plus-CR Bundles/Container Discount Eligibility)—Flats

[Revise 6.5.4 to read as follows:]

The High Density Plus-CR Bundles/Container discount applies to 300 or more High Density Plus-eligible pieces that are palletized under 705.8.0, 705.10.0, 705.12.0, or 705.13.0 a 5-digit merged, 5-digit (scheme) merged, 5-digit carrier route, 5-digit carrier routes, or 5-digit scheme carrier route pallet entered at an Origin (None), DNDC/RPDC, DSCF/LPC, or DDU/SDC entry, or in a carrier route sack or tub under 245.9.7a or 203.5.8 and entered at the DDU/SDC.

6.5.5 High Density USPS Marketing Mail Flat-Shaped Pieces SCF Pallet Discount Eligibility

[Revise 6.5.5 to read as follows:]

The SCF pallet discount applies to 125 or more High Density-eligible USPS Marketing Mail flat-shaped pieces that are palletized under 705.8.10.3d, 705.8.10.3e, and 705.8.10.3f and entered at Origin (None), DNDC/RPDC, or DSCF/LPC entry.

6.5.6 High Density Plus USPS Marketing Mail Flat-Shaped Pieces SCF Pallet Discount Eligibility

[Revise 6.5.6 to read as follows:]

The SCF pallet discount applies to 300 or more High Density Plus-eligible USPS Marketing Mail flat-shaped pieces that are palletized under 705.8.10.3d, 705.8.10.3e, and 705.8.10.3f and entered at Origin (None), DNDC/RPDC, or DSCF/LPC entry.

6.6 Saturation ECR Standards—Letters

* * * * *

6.6.3 Saturation USPS Marketing Mail Letter-Shaped Pieces SCF Pallet Discount Eligibility

[Revise 6.6.3 to read as follows:]

The SCF pallet discount applies to at least 90 percent or more of the total number of active residential addresses, or 75 percent or more of the total number of active possible delivery addresses, on each carrier route that are palletized under 705.8.10.3a to 705.8.10.3f and entered at Origin (None), DNDC/RPDC, or DSCF/LPC entry.

6.7 Saturation Enhanced Carrier Route Standards—Flats

* * * * *

6.7.3 Saturation—(including EDDM) Carrier Route Bundles on a 5-Digit/Direct Container (Saturation—CR Bundles/Container Discount Eligibility)—Flats

[Revise 6.7.3 to read as follows:]

The Saturation-CR Bundles/Container discount applies to at least 90 percent or more of the total number of active residential addresses or 75 percent or more of the total number of active possible delivery addresses on each carrier route that are palletized under 705.8.0, 705.10.0, 705.12.0, or 705.13.0 on a 5-digit merged, 5-digit (scheme) merged, 5-digit carrier route, 5-digit carrier routes, or 5-digit scheme carrier route pallet entered at an Origin (None), DNDC/RPDC, DSCF/LPC, or DDU/SDC entry, or in a carrier route sack or tub under 245.9.7a or 203.5.8 and entered at the DDU/SDC.

6.7.4 Saturation USPS Marketing Mail Flat-Shaped Pieces SCF Pallet Discount Eligibility

[Revise 6.7.4 to read as follows:]

The SCF pallet discount applies to at least 90 percent or more of the total number of active residential addresses, or 75 percent or more of the total number of active possible delivery addresses, on each carrier route that are palletized under 705.8.10.3d, 705.8.10.3e, and 705.8.10.3f and entered at Origin (None), DNDC/RPDC, or DSCF/LPC entry.

7.0 Eligibility Standards for Automation USPS Marketing Mail

* * * * *

7.3 Maximum Weight for Automation Letters

* * * * *

7.3.2 5-Digit USPS Marketing Mail Letter-Shaped Pieces SCF Pallet Discount Eligibility

[Revise 7.3.2 to read as follows:]

The SCF pallet discount applies to 5-digit-eligible USPS Marketing Mail letter-shaped pieces that are palletized under 705.8.10.3a to 705.8.10.3f and entered at Origin (None), DNDC/RPDC, or DSCF/LPC entry.

7.3.3 AADC USPS Marketing Mail Letter-Shaped Pieces SCF Pallet Discount Eligibility

[Revise 7.3.3 to read as follows:]

The SCF pallet discount applies to AADC-eligible USPS Marketing Mail letter-shaped pieces that are palletized under 705.8.10.3e and 705.8.10.3f and entered at Origin (None), DNDC/RPDC, or DSCF/LPC entry.

7.4 Price Application for Automation Letters

* * * * *

[Revise 7.4.2 to read as follows:]

7.4.2 5-Digit USPS Marketing Mail Flat-Shaped Pieces SCF Pallet Discount Eligibility

The SCF pallet discount applies to 5-digit-eligible USPS Marketing Mail flat-shaped pieces that are palletized under 705.8.10.3d, 705.8.10.3e, and 705.8.10.3f and entered at Origin (None), DNDC/RPDC, or DSCF/LPC entry.

7.4.3 3-Digit USPS Marketing Mail Flat-Shaped Pieces SCF Pallet Discount Eligibility

[Revise 7.4.3 to read as follows:]

The SCF pallet discount applies to 3-digit-eligible USPS Marketing Mail flat-shaped pieces that are palletized under 705.8.10.3e and 705.8.10.3f and entered at Origin (None), DNDC/RPDC, or DSCF/LPC entry.

7.4.4 ADC USPS Marketing Mail Flat-Shaped Pieces SCF Pallet Discount Eligibility

[Revise 7.4.4 to read as follows:]

The SCF pallet discount applies to ADC-eligible USPS Marketing Mail flat-shaped pieces that are palletized under 705.8.10.3e and 705.8.10.3f and entered at Origin (None), DNDC/RPDC, or DSCF/LPC entry.

* * * * *

[Delete section 243.8.0 in its' entirety and renumber 243.9.0 as 8.0, 8.1, 8.2, and 8.3 respectively]

* * * * *

8.0 Customized MarketMail

8.1 Basic Standards

[Revise the last sentence of renumbered 8.1 to read as follows:]

* * * CMM must be entered at a destination delivery unit (DDU)/sorting & delivery center (SDC).

* * * * *

245 Mail Preparation

Overview

[Delete index listing 12.0 and renumber 13.0 as 12.0]

1.0 General Information for Mail Preparation

* * * * *

1.2 Definition of Mailings

Mailings are defined as: * * *

[Delete items b(5) and b(6) and renumber items b(7) through b(10) as b(5) through b(8) respectively:]

1.3 Terms for Presort Levels

1.3.1 Letters

Terms used for presort levels are defined as follows: * * *

[Revise items (f) through (h) to read as follows:]

f. Origin/entry 3-digit(s): the ZIP Code in the delivery address on all pieces begins with one of the 3-digit prefixes processed at the sectional center facility (SCF)/local processing center (LPC) in whose service area the mail is verified/entered. Separation is optional for each such 3-digit area. Mail may be prepared for each 3-digit (or 3-digit scheme) area served by the SCF/LPC/plant where mail is entered (if that is different from the SCF/LPC/plant serving the Post Office where the mail is verified—e.g., a PVDS deposit site). In all cases, only one less-than-full tray may be prepared for each 3-digit (or 3-digit scheme) area.

g. SCF: the separation includes pieces for two or more 3-digit areas served by the same sectional center facility (SCF)/local processing center (LPC) (see L005), except that, where required or permitted by standard, mail for a single 3-digit area may be prepared in an SCF separation when no mail for other 3-digit ZIP Code areas is available. For pallets, the SCF sort may include mail for a single 3-digit ZIP Code area.

h. Origin/optional entry SCF: the separation includes bundles for one or more 3-digit areas served by the same sectional center facility (SCF)/local processing center (LPC) (see L002, Column C, or L005) in whose service area the mail is verified/entered. Subject to standard, this separation is required regardless of the volume of mail. * * *

[Revise item (j) to read as follows:]

j. ASF/NDC: all pieces are addressed for delivery in the service area of the same auxiliary service facility (ASF) or network distribution center (NDC)/regional processing distribution center (RPDC) (see L601, L602, or L605). * * *

1.3.2 Flats

Terms used for presort levels are defined as follows: * * *

[Revise items (j) through (o) to read as follows:]

j. Origin/entry 3-digit(s): the ZIP Code in the delivery address on all pieces begins with one of the 3-digit prefixes processed at the sectional center facility (SCF)/local processing center (LPC) in whose service area the mail is verified/entered. Separation is optional for each such 3-digit area.

k. SCF: the separation includes pieces for two or more 3-digit areas served by the same sectional center facility (SCF)/local processing center (LPC) (see L005), except that, where required or permitted by standard, mail for a single 3-digit area may be prepared in an SCF separation when no mail for other 3-digit ZIP Code areas is available. For pallets, the SCF sort may include mail for a single 3-digit ZIP Code area.

l. Origin/optional entry SCF: the separation includes bundles for one or more 3-digit areas served by the same sectional center facility (SCF)/local processing center (LPC) (see L002, Column C, or L005) in whose service area the mail is verified/entered. Subject to standard, this separation is required regardless of the volume of mail.

m. When palletized under 705.8.0 and 705.10.0 through 705.13.0, in an ADC bundle of 10 or more pieces; properly placed on an ADC/RPDC pallet.

n. ASF/NDC: all pieces are addressed for delivery in the service area of the same auxiliary service facility (ASF)/network distribution center (NDC)/regional processing distribution center (RPDC) (see L601, L602, or L605).

o. When palletized under 705.8.0 and 705.10.0 through 705.13.0, in an ADC bundle of 10 or more pieces; properly placed on an ADC/RPDC pallet.

* * * * *

1.3.3 Marketing Parcels

Terms used for presort levels are defined as follows:

[Delete item (a) and renumber items (b) through (i) as (a) through (h) respectively:]

[Revise newly renumbered items (d) through (g) to read as follows:]

d. SCF: the separation includes pieces for two or more 3-digit areas served by the same sectional center facility (SCF)/regional processing distribution center (RPDC) (see L005), except that, where required or permitted by standard, mail for a single 3-digit area may be prepared in an SCF separation when no mail for other 3-digit ZIP Code areas is available. For pallets, the SCF sort may include mail for a single 3-digit ZIP Code area.

e. ASF/NDC: all pieces are addressed for delivery in the service area of the same auxiliary service facility (ASF)/network distribution center (NDC)/regional processing distribution center (RPDC) (see L601, L602, or L605).

f. Origin NDC: this separation includes all pieces addressed for delivery to ZIP Codes within the same NDC/RPDC (see L601) that serves the acceptance office that verifies the mailing. There is no minimum quantity requirement for this separation.

g. Mixed [NDC, ADC, etc.]: the pieces are for delivery in the service area of more than one NDC/ADC/RPDC, etc. * * *

* * * * *

1.4 Preparation Definitions and Instructions

For purposes of preparing mail: * * *

[Revise items (r) and (s) to read as follows:]

r. An origin 3-digit (or origin 3-digit scheme) tray for letters and flats contains all mail (regardless of quantity) for a 3-digit ZIP Code (or 3-digit scheme) area processed by the SCF/LPC in whose service area the mail is verified. A separate tray may be prepared for each 3-digit ZIP Code (or 3-digit scheme) area. A tray may be prepared for each 3-digit (or 3-digit scheme) area served by the SCF/LPC/plant where mail is entered (if that is different from the SCF/LPC/plant serving the Post Office where the mail is verified). In all cases, only one less-than-full tray may be prepared for each 3-digit (or 3-digit scheme) area.

s. An origin AADC tray contains all mail (regardless of quantity) for an AADC ZIP Code area processed by the AADC or SCF/LPC in whose service area the mail is verified/entered. Only one less-than-full tray may be prepared for each AADC area. * * *

[Revise item (v) to read as follows:]

v. Entry [facility] (or origin [facility]) refers to the USPS mail processing facility (e.g., “entry NDC/RPDC”) that serves the Post Office at which the mail is entered by the mailer. If the Post Office where the mail is entered is not the one serving the mailer's location (e.g., for plant-verified drop shipment), the Post Office of entry determines the entry facility. Entry SCF/LPC (letter and flats) and Entry SCF/RPDC (parcels) includes both single-3-digit and multi-3-digit SCFs. Entry NDC/RPDC includes subordinate ASFs unless otherwise specified. * * *

[Revise the last sentence of item (y) to read as follows:]

y. * * * For pallets, 2,800 pounds of mail may be destined to an SCF/LPC (letters and flats) or SCF/RPDC (parcels) destination, and these would form the “logical” SCF pallet, but the mail is placed on two physical SCF pallets each weighing 1,400 pounds because of the 2,200 pound maximum pallet weight requirement. * * *

* * * * *

2.0 Bundles

* * * * *

2.2 Marketing Parcels

2.2.1 Bundling

[Revise the text of 2.2.1 to read as follows:]

Bundling is not permitted.

[Delete item 2.2.2 in its' entirety]

3.0 Letter Trays, Flat Trays, and Sacks

[Revise the text of 3.0 to read as follows:]

Letter mailings must be prepared in letter trays with sleeves. Flat mailings must be prepared in flat trays or sacks (carrier route, 5-digit scheme carrier route and 5-digit carrier route only) except when permitted to be prepared in letter trays under other applicable standards in this section. Parcel mailings must be prepared in sacks. Containers for Customized MarketMail are specified in 245.13.5. See 203.5.0 and 203.6.0 for tray and sack standards.

* * * * *

5.0 Preparing Nonautomation Letters

* * * * *

5.3 Machinable Preparation

* * * * *

5.3.2 Traying and Labeling

Instead of preparing overflow AADC trays with fewer than 150 pieces, mailers may include these pieces in mixed AADC trays when a tray of 150 or more pieces can be made. Mailers must note these trays on standardized documentation (see 203.3.2). Pieces that are placed in the next tray level must be grouped by destination and placed in the front or back of that tray. Preparation sequence, tray size, and labeling: * * *

[Revise item (c1) to read as follows:]

c. Mixed AADC (required); no minimum; labeling:

1. Line 1: L011, Column B. Use L010, Column B, if entered at an ASF/NDC/RDPC or for mail placed on an ASF/NDC/RPDC, or SCF/LPC pallet under the option in 705.8.10.3. * * *

* * * * *

5.4 Nonmachinable Preparation

* * * * *

5.4.2 Traying and Labeling

When all full trays for a destination have been prepared, mailers may include a group of 10 or more overflow pieces for that destination in a qualified tray at either of the next two tray levels. For example, overflow pieces for a 5-digit destination may be placed into an existing correct 3-digit tray; if a 3-digit tray that includes the 5-digit destination does not exist, the overflow pieces may be placed into the correct existing ADC tray. Bundle the overflow pieces separately with the correct presort bundle label or OEL; the pieces will still qualify for the 5-digit price. Mailers must note these trays on standardized documentation (see 203.3.2). Preparation sequence, tray size, and labeling: * * *

[Revise item (d1) to read as follows:]

d. Mixed ADC (required); no minimum; labeling:

1. Line 1: L011, Column B. Use L010, Column B, if entered at an ASF/NDC/RPDC or for mail placed on an ASF/NDC/RPDC, or SCF/LPC pallet under the option in 705.8.10.3. * * *

* * * * *

6.0 Preparing Enhanced Carrier Route Letters

* * * * *

6.7 Traying and Labeling for Automation-Compatible ECR Letters

[Revise the introductory paragraph of 6.7 to read as follows:]

Mailers must make full carrier route and 5-digit carrier routes trays, when possible, for automation-compatible, delivery-point barcoded ECR letters that weigh up to 3.5 ounces. Except for card-size pieces, pieces must not be bundled. Group pieces together by carrier route in 5-digit and 3-digit carrier routes trays. If pieces for one carrier route do not result in a full tray, mailers must combine pieces from at least two routes to make full 5-digit carrier routes trays, grouping pieces together by carrier route. If pieces for multiple carrier routes do not result in a full 5-digit tray, mailers must combine pieces from at least two 5-digit ZIP Codes to make 3-digit carrier routes trays, grouping pieces together by carrier route. If pieces fill more than one tray but do not fill an additional tray, mailers must place excess pieces in a tray at the next sortation level. (See 6.10 for Optional 5-digit Tray Preparation). Preparation sequence, tray size, and labeling: * * *

* * * * *

[Add a new section 6.10 to read as follows]

6.10 Optional 5-digit Tray Preparation for High Density and High Density Plus ECR Automation Compatible Letters

6.10.1 Basic Standards

An optional 5-digit tray preparation allows combining multiple mail owners' High Density, High Density Plus, and 5-digit automation compatible letters in a letter tray when meeting the following standards:

a. Each individual mail owner must meet the minimum quantities in 243.6.4.2 for High Density and High Density Plus to claim HD/HD+ prices with a minimum combined 150 pieces of 5-Digit, HD or HD Plus in a 5-Digit tray.

b. The separate requirement of 150 pieces for 5-digit is waived.

c. The minimums must be achieved by a single mail owner defined by their individual MID and/or CRID in the By/For of the eDoc for each carrier route.

d. Walk Sequencing is not required within the letter trays.

e. Bundling and facing slips are not required.

f. Must meet the High Density and High Density Plus marking requirements in 6.2.

g. The Optional Tray Preparation must be used for entire mailing within eDoc.

6.10.2 Traying and Labeling

Mailers must make full 5-digit trays for automation-compatible, delivery-point barcoded letters that weigh up to 3.5 ounces and that meet the standards of 6.10.1. Bundling or facing slips are not required. Preparation sequence, tray size, and labeling:

a. Same Carrier Route to same 5-Digit; full trays only.

1. Line 1: city, state, and 5-digit ZIP Code on mail

2. Line 2: “STD LTR BC”

b. Multiple Carrier Routes to same 5-Digit; full trays only.

1. Line 1: city, state, and 5-digit ZIP Code on mail

2. STD LTR 5D MXD CR-RTS BC

7.0 Preparing Automation Letters

* * * * *

7.5 Tray Preparation

Instead of preparing overflow trays with fewer than 150 pieces, mailers may include these pieces in an existing qualified tray of at least 150 or more pieces at the next tray level. (For example, if a mailer has 30 overflow 5-digit pieces for ZIP Code 20260, these pieces may be added to an existing qualified AADC tray for the correct destination and the overflow 5-digit pieces will still qualify for the 5-digit price). Mailers must note these trays on standardized documentation (see 203.3.2). Pieces that are placed in the next tray level must be grouped by destination and placed in the front or back of that tray. Mailers may use this option selectively for AADC ZIP Codes. This option does not apply to origin/entry AADC trays. Preparation sequence, tray size, and Line 1 labeling: * * *

[Revise item (c) to read as follows:]

c. Mixed AADC: required (no minimum); group pieces by AADC when overflow pieces from AADC trays are placed in mixed AADC trays. For Line 1 labeling: use L011, Column B. Use L010, Column B if entered at an ASF/NDC/RPDC or for mail placed on an ASF/NDC/RPDC, or SCF/LPC pallet under the option in 705.8.10.3.

8.0 Preparing Nonautomation Flats

* * * * *

8.6 Traying, Sacking, and Labeling

[Revise the introductory paragraph of 8.6 to read as follows:]

Flat trays are allowed for all sortations. Sack preparation is allowed only for the following: Nonpalletized residual 5-digit flats entered at a DDU/SDC along with carrier route flats; Nonpalletized carrier route flats entered at the DSCF/LPC (origin); Nonpalletized 5-digit flats entered at the DSCF/LPC (origin); and nonpalletized 3-digit flats entered at the DSCF/LPC (origin). DSCF/LPC (origin) 5-digit and 3-digit/SCF sacks must be entered at the BMEU and emptied into a designated container. All other sortations require flat tray preparation. Preparation sequence and labeling: * * *

* * * * *

10.4 USPS Marketing Mail Bundle and Flat Tray Preparation

* * * * *

10.4.3 Traying, Sacking, and Labeling

[Revise the introductory paragraph of 10.4.3 to read as follows:]

Sack preparation is allowed only for the following: Nonpalletized residual 5-digit flats entered at a DDU/SDC along with carrier route flats; Nonpalletized carrier route flats entered at the DSCF/LPC (origin); Nonpalletized 5-digit flats entered at the DSCF/LPC (origin); and nonpalletized 3-digit flats entered at the DSCF/LPC (origin). DSCF/LPC (origin) 5-digit and 3-digit/SCF sacks must be entered at the BMEU and emptied into a designated container. All other sortations require flat tray preparation. Preparation sequence and labeling: * * *

11.0 Preparing Presorted Parcels

* * * * *

11.3 Preparing Marketing Parcels (6 Ounces or More) and Machinable Parcels

11.3.1 Sacking

Prepare mailings of Marketing parcels weighing 6 ounces or more and mailings of machinable parcels under 11.3. Prepare 5-digit sacks only for parcels dropshipped to a DNDC/RPDC (or ASF/RPDC when claiming DNDC prices), DSCF/RPDC, or DDU/SDC. Prepare ASF/NDC/RPDC sacks only for parcels dropshipped to a DNDC/RPDC (or ASF when claiming DNDC prices). There is no minimum for parcels in 5-digit/scheme sacks entered at a DDU/SDC. Mailers combining irregular parcels with machinable parcels placed in 5-digit/scheme sacks must prepare those sacks under 11.3.2a. Mailers combining Marketing parcels weighing 6 ounces or more with machinable parcels placed in ASF/NDC/RPDC, or mixed NDC sacks must prepare the sacks under 11.3.2.

11.3.2 Sacking and Labeling

Preparation sequence, sack size, and labeling:

[Revise the introductory text of item (a) to read as follows:]

a. 5-digit/scheme (optional, but required for 5-digit price), see definition in 1.4n.; allowed only for mail deposited at DNDC/RPDC (or ASF when claiming DNDC prices), DSCF/RPDC, or DDU/SDC. Sacks must contain a 10-pound minimum except at DDU/SDC entry which has no minimum; labeling: * * *

[Revise the introductory text of item (b) to read as follows:]

a. ASF (optional), allowed only for mail deposited at an ASF/RPDC to claim DNDC price; 10-pound minimum; labeling: * * *

[Revise the introductory text of item (c) to read as follows:]

c. NDC, allowed only for mail deposited at a DNDC/RPDC to claim the NDC price; 10-pound minimum; labeling: * * *

* * * * *

e. Mixed NDC (required); no minimum; labeling:

[Revise item (e1) to read as follows:]

1. Line 1: “MXD” followed by L601, Column B information for NDC/RPDC serving 3-digit ZIP Code prefix of entry Post Office. * * *

11.4 Preparing Marketing Parcels (Less Than 6 Ounces) and Irregular Parcels

11.4.1 Bundling

[Revise the text of 11.4.1 to read as follows:]

Bundling is not permitted.

* * * * *

11.4.2 Sacking

[Revise item 11.4.2 to read as follows:]

Prepare mailings of Marketing parcels weighing less than 6 ounces and mailings of irregular parcels under 11.4. Prepare 5-digit sacks only for parcels dropshipped to a DNDC/RPDC (or ASF/RPDC when claiming DNDC prices), DSCF/RPDC, or DDU/SDC. See 11.4.3 for restrictions on SCF/ASF/NDC/RPDC sacks. Mailers must prepare a sack when the mail for a required presort destination reaches 10 pounds of pieces. There is no minimum for parcels prepared in 5-digit/scheme sacks entered at a DDU/SDC. Mailers combining irregular parcels with machinable parcels and Marketing parcels weighing 6 ounces or more in 5-digit/scheme sacks must prepare those sacks under 11.3.2. Mailers may not prepare sacks containing irregular and machinable parcels to other presort levels. Mailers may combine irregular parcels with Marketing parcels weighing less than 6 ounces in sacks under 11.4.3.

11.4.3 Sacking and Labeling

Preparation sequence, sack size, and labeling:

[Revise the introductory text of item (a) to read as follows:]

a. 5-digit/scheme (optional, but required for 5-digit price), see definition in 1.4n; allowed only for mail deposited at DNDC/RPDC (or ASF/RPDC when claiming DNDC prices), DSCF/RPDC, or DDU/SDC. Sacks must contain a 10-pound minimum except at DDU/SDC entry which has no minimum; labeling: * * *

[Revise the introductory text of item (b) to read as follows:]

b. SCF, allowed only for mail deposited at a DSCF/RPDC or a DNDC/RPDC to claim SCF price; 10-pound minimum; labeling: * * *

[Revise the introductory text of item (c) to read as follows:]

c. ASF (optional), allowed only for mail deposited at an ASF/RPDC to claim DNDC price; 10-pound minimum; labeling: * * *

[Revise the introductory text of item (d) to read as follows:]

d. NDC, allowed only for mail deposited at a DNDC/RPDC to claim the NDC price; 10-pound minimum; labeling: * * *

* * * * *

f. Mixed NDC (required); no minimum; labeling:

[Revise item (f1) to read as follows:]

1. Line 1: “MXD” followed by L601, Column B information for NDC/RPDC serving 3-digit ZIP Code prefix of entry Post Office. * * *

* * * * *

[Delete section 12.0 in its' entirety and renumber section 13.0 as 12.0, 12.1, 12.2, 12.3, 12.4,12.5 and 12.6 respectively:]

* * * * *

246 Enter and Deposit

* * * * *

2.0 Destination Entry

* * * * *

2.5 Verification

* * * * *

2.5.3 At NDC

[Revise 2.5.3 to read as follows:]

For a mailing verified at a NDC/RPDC, the Post Office where the mailer`s account or license is held must be within the service area of that NDC/RPDC. The Post Office must authorize the NDC/RPDC to act as its agent by sending Form 4410 to the NDC/RPDC.

* * * * *

2.5.5 Volume Standards

Except as permitted for a local mailer under 2.6.13, destination entry mailings are subject to these volume standards:

[Revise item (a) to read as follows:]

a. The pieces for which a destination price is claimed must represent more than 50% of the mail (by weight or pieces, whichever is greater) presented by the same mailer within any 24-hour period. For this standard, mailer is the party presenting the mail to the USPS. * * *

* * * * *

2.6 Deposit

* * * * *

2.6.3 Appointments

Appointments must be made for destination entry price mail as follows: * * *

[Revise the first sentence of item (c) to read as follows:]

c. For deposit of DDU/SDC mailings, an appointment must be made by contacting the DDU/SDC or through FAST, available at fast.usps.com, at least 24 hours in advance. * * *

* * * * *

2.6.4 Advance Scheduling

[Revise the introductory paragraph of 2.6.4 to read as follows:]

Mailers must schedule appointments for deposit of destination entry price mail under 2.6.3 and the conditions below. When making an appointment, or as soon as available, the mailer must provide the DDU/SDC or FAST with the following information: * * *

[Revise the last sentence of item (b) to read as follows:]

b. * * * For DDU/SDC entries, the mailer also must provide the 5-digit ZIP Code(s) of the mail being deposited.

* * * * *

2.6.5 Adherence to Schedule

[Revise the last sentence of 2.6.5 to read as follows:]

* * * Destination facilities may refuse acceptance or deposit of unscheduled mailings or shipments that arrive more than 2 hours after the scheduled appointment at ASFs, NDCs/RPDCs, or SCFs/LPCs or more than 20 minutes at delivery units.

2.6.6 Redirection by USPS

[Revise the text of 2.6.6 to read as follows:]

A mailer may be directed to transport destination entry price mailings to a facility other than the designated DDU/SDC, SCF/LPC (letter/flats), SCF/RPDC (parcels) or NDC/RPDC due to facility restrictions, building expansions, peak season mail volumes, or emergency constraints.

2.6.7 Redirection at Mailer's Request

[Revise the text of 2.6.6 to read as follows:]

A mailer may ask to transport destination SCF/LPC (letters/flats) or SCF/RPDC (parcels) price mail to a facility other than the designated SCF/LPC/RPDC. In very limited circumstances, this exception may be approved only by the manager, Network Integration Support (see 608.8.0 for address). To qualify for the SCF price in this situation, mail deposited at a facility other than the SCF/LPC/RPDC must destinate for processing within that facility and must not require backhauling to the SCF/LPC/RPDC.

* * * * *

2.6.9 Vehicle Unloading

Unloading of destination entry mailings is subject to these conditions:

[Revise the first sentence of item (a) to read as follows:]

a. Properly prepared containerized loads (e.g., pallets) are unloaded by the USPS at NDCs/RPDCs, ASFs, and SCFs/LPCs. * * *

[Revise the first sentence of item (b) to read as follows:]

b. At NDCs/RPDCs, ASFs, and SCFs/LPCs, the driver must unload bedloaded shipments within 8 hours of arrival. * * *

[Revise the introductory text of item (c) to read as follows:]

c. At destination delivery units (DDUs)/sorting & delivery centers (SDCs), drivers must unload all mail within 1 hour of arrival. Unloading procedures are as follows: * * *

[Revise the text of item (c4) to reads as follows:]

4. At DDUs/SDCs that cannot handle pallets, drivers must unload any mail from pallets and place it into containers as delivery unit employees specify. * * *

* * * * *

[Revise the title of 3.0 to read as follows:]

3.0 Destination Network Distribution Center (DNDC)/Regional Processing Distribution Center (RPDC) Entry

3.1 Definition

[Revise the text of 3.1 to read as follows:]

For this standard, destination network distribution center (DNDC)/regional processing distribution center (RPDC) includes network distribution centers (NDCs), regional processing distribution centers (RPDCs), and auxiliary service facilities (ASFs) with terms and exceptions as shown and described in labeling lists L601 and L602.

3.2 Eligibility

[Revise the text of 3.2 to read as follows:]

Pieces in a mailing that meets the standards in 2.0 and 3.0 are eligible for DNDC prices when they are deposited at an NDC/RPDC or ASF and meet all of the following conditions:

a. The pieces are addressed for delivery to one of the 3-digit ZIP Codes served by the NDC/ASF/RPDC where deposited (see labeling lists L601 and L602).

b. The pieces are properly placed in a tray, sack, or pallet that is labeled to the NDC/ASF/RPDC where deposited, or labeled to a postal facility within the service area of that NDC/ASF/RPDC.

c. Mail addressed to ZIP Codes served by an ASF/RPDC must be entered at the appropriate ASF per L602, and not entered at an NDC/RPDC.

d. If bundles of flats are reallocated from an ASF pallet to an NDC/RPDC pallet under 705.8.14, mail for the ASF ZIP Codes that is on the NDC/RPDC pallet is not eligible for DNDC prices.

e. Except for machinable parcels addressed to ZIP Codes served by the Buffalo NY ASF, mail addressed to ZIP Codes served by an ASF/RPDC must be entered at the appropriate ASF per L602, and not entered at an NDC/RPDC.

3.3 Eligibility for ADC Mailpieces—Letters

[Revise the text of 3.3 to read as follows:]

All pieces in an ADC sack or tray are eligible for the DNDC discount if the ADC facility ZIP Code (as shown on Line 1 of the corresponding container label) is within the service area of the NDC/RPDC or ASF at which the tray is deposited, as described in labeling lists L601 and L602. All pieces in a palletized ADC bundle are eligible for DNDC prices if the ADC facility destination (determined by the “Label To” ZIP Code in Column B of labeling list L004) is within the service area of the NDC/RPDC or ASF at which deposited according to L601 and L602.

3.4 Eligibility for Mixed ADC Bundles, Trays, or Mixed AADC Trays—Letters

[Revise the introductory paragraph of 3.4 to read as follows:]

Mailpieces in a mixed ADC or a mixed AADC tray can qualify for DNDC prices when entered at a NDC/RPDC/ASF or SCF/LPC facility responsible for the processing of those trays (see 705.8.10.3e.), if the following standards are met:

[Revise the text of item 3.4(a) to read as follows:]

a. All pieces in the bundle or tray must destinate within the ASF or NDC/RPDC service area as described in labeling lists L601 and L602. * * *

* * * * *

3.5 Eligibility for ADC Mailpieces—Flats

[Revise text of 3.5 to read as follows:]

All pieces in an ADC sack or tray are eligible for the DNDC discount if the ADC facility ZIP Code (as shown on Line 1 of the corresponding container label) is within the service area of the NDC/RPDC or ASF at which the sack or tray is deposited, as described in labeling lists L601 and L602. All pieces in a palletized ADC bundle are eligible for DNDC prices if the ADC facility destination (determined by the “Label To” ZIP Code in Column B of labeling list L004) is within the service area of the NDC/RPDC or ASF at which deposited according to L601 and L602.

3.6 Eligibility for Mixed ADC Bundles, Sacks or Trays—Flats

Mailpieces in a mixed ADC bundle, sack, or tray can qualify for DNDC prices if the following standards are met:

[Revise the text of item 3.5(a) to read as follows:]

a. All pieces in the bundle, sack, or tray must destinate within the ASF/NDC/RPDC service area as described in labeling lists L601 and L602.

* * * * *

3.7 Additional Standards for Machinable Parcels

[Revise the first sentence of 3.7 to read as follows:]

For destination NDC/ASF/RPDC containers, except as provided in labeling lists L601 and L602, sortation of machinable parcels to ASFs is optional but is required for the ASF mail to be eligible for DNDC prices. * * *

3.8 Vehicles

[Revise the text of 3.8 to read as follows:]

Mailings deposited at a DNDC/RPDC must be presented in vehicles compatible with NDC/RPDC dock and yard operations.

3.9 Form 4410

[Revise the text of 3.9 to read as follows:]

Mailings may be deposited at the DNDC/RPDC only if that facility is authorized (by Form 4410) to act as acceptance agent for the entry Post Office (where the meter license, precanceled stamp permit, or permit imprint authorization is held). Form 4410 is not required for plant-verified drop shipments.

[Revise the title of 4.0 to read as follows:]

4.0 Destination Sectional Center Facility (DSCF)/Local Processing Center (LPC) Entry

4.1 Definition

For this standard, destination sectional center facility (DSCF)/local processing center (LPC) refers to the facilities listed in L002, Column C.

4.2 Eligibility

4.2.1 Letters

Pieces in a mailing that meet the standards in 2.0 and 4.0 are eligible for DSCF prices under either 4.2.1a. or 4.2.1b. below:

[Revise text of item 4.2.1(a) to read as follows:]

a. When deposited at a DSCF/LPC or USPS-designated facility, and either:

1. Placed in a tray labeled to a destination within the SCF's/LPC's service area, when all pieces in the tray are addressed for delivery within that SCF's/LPC's service area.

2. Placed in an ADC or AADC tray labeled to a destination within the SCF's/LPC's service area, regardless of whether all pieces in the tray are addressed for delivery within that SCF's/LPC's service area.

[Revise the introductory text of 4.2.1(b) to read as follows:]

b. When entered and deposited at a DDU/SDC, addressed for delivery within that facility`s service area, placed in a tray labeled to that DDU/SDC, and either: * * *

[Revise text of item 4.2.1(b2) to read as follows:]

2. The mailer holds a mailing permit at the DDU/SDC entry office and deposits only one mailing of fewer than 2,500 pieces per day.

4.2.2 Flats

Pieces in a mailing that meets the standards in 2.0 and 4.0 are eligible for the DSCF price, as follows:

[Revise text of items (a) through (c) to read as follows:]

a. When deposited at a DSCF/LPC or USPS-designated facility, addressed for delivery within the DSCF's/LPC's service area, and placed in a flat tray, sack (when applicable), or on a pallet labeled to the DSCF/LPC or to a destination within its service area. This includes flat trays labeled to an ADC facility with the same service area as the DSCF/LPC.

b. When prepared in 5-digit bundles and placed in or on a merged 5-digit scheme or merged 5-digit flat tray, sack (when applicable), or pallet that is deposited at the destination delivery unit/sorting & delivery center as defined in 5.1.

c. When prepared as nonpalletized carrier route, 5-digit scheme carrier route, 5-digit carrier route, 5-digit, or 3-digit flats in sacks entered at the DSCF/LPC (origin). DSCF/LPC (origin) 5-digit and 3-digit/SCF sacks must be entered at the BMEU and emptied into a designated container.

4.2.3 Parcels

Pieces in a mailing that meets the standards in 2.0 and 4.0 are eligible for the DSCF price, as follows:

[Revise the text of items (a) and (b) to read as follows:]

a. When deposited at a DSCF/RPDC or USPS-designated facility, addressed for delivery within the DSCF's/RPDC's service area, and placed in a sack or on a pallet that is labeled to the DSCF/RPDC or to a destination within its service area.

b. When prepared in 5-digit bundles and placed on a 5-digit pallet or in a 5-digit scheme or 5-digit sack that is deposited at the destination delivery unit/sorting & delivery center as defined in 5.1. * * *

* * * * *

4.3 Vehicles

[Revise the text of 4.3 to read as follows:]

Mailings deposited at a DSCF/LPC (letters/flats) or DSCF/RPDC (parcels) must be presented in vehicles that are compatible with SCF/LPC/RPDC dock and yard operations.

[Revise the title of 5.0 to read as follows:]

5.0 Destination Delivery Unit (DDU)/Sorting & Delivery Center (SDC) Entry

5.1 Definition

[Revise the text of 5.1 to read as follows:]

For this standard, destination delivery unit (DDU)/sorting & delivery center (SDC) refers to the facility designated by the USPS district drop shipment coordinator (for automation price USPS Marketing Mail) or the facility (Post Office, branch, station, etc.) where the carrier cases mail for delivery to the addresses on pieces in the mailing (for other USPS Marketing Mail).

5.2 Eligibility

5.2.1 Letters

[Revise the last sentence of the introductory paragraph to read as follows:]

* * * Mailers may deposit letter-size pieces that meet the standards in 2.0 and 5.0 at a DDU/SDC when: * * *

* * * * *

5.2.2 Flats

[Revise the text of 5.2.2 to read as follows:]

Properly prepared Enhanced Carrier Route (ECR) flat-size pieces entered according to standards in 2.0 and 5.0 are eligible for the DDU price when deposited at a DDU/SDC and addressed for delivery within that facility`s service area. Mailers must unload mail at DDUs/SDCs according to standards in 2.6.9. Only pieces eligible for and claimed at ECR prices are eligible for the DDU discount. No other prices or discounts are available for pieces receiving the DDU discount. When mailings contain pieces claimed at more than one destination entry price, mailers must separate mail according to standards in 2.5.1. Nonpalletized residual 5-digit flats remaining after a carrier route sortation may be prepared in sacks and deposited at the DDU/SDC along with a carrier route mailing.

5.2.3 Parcels

[Revise text of 5.2.3 to read as follows:]

Pieces in a mailing that meets the standards in 2.0 and 5.0 are eligible for the DDU price when deposited at a DDU/SDC, addressed for delivery within that facility`s service area, and prepared as one or more parcels in 5-digit containers.

* * * * *

260 Commercial Mail Bound Printed Matter

263 Prices and Eligibility

1.1 Nonpresorted Bound Printed Matter

* * * * *

[Add item 1.1.3 to read as follows:]

1.1.3 Catalog Incentive Discount

Items qualifying as a catalog under 601.10 are eligible for an incentive discount when appropriately identified on the postage statement and/or the eDoc.

1.2 Presorted and Carrier Route Bound Printed Matter

* * * * *

[Add item 1.2.8 to read as follows:]

1.2.8 Catalog Incentive Discount

Items qualifying as a catalog under 601.10 are eligible for an incentive discount when appropriately identified on the postage statement and/or the eDoc.

* * * * *

2.0 Content Standards for Bound Printed Matter

2.1 Basic Content Standards

Bound Printed Matter (BPM) is a subclass of Package Services and must: * * *

[Add item (g) to read as follows:]

g. Meet the standards in 601.10 if prepared as a catalog.

* * * * *

4.0 Price Eligibility for Bound Printed Matter

* * * * *

4.2 Destination Entry Price Eligibility

[Revise the text of 4.2 to read as follows:]

BPM destination entry prices apply to BPM mailings prepared as specified in 705.8.0, 705.14.0 and 265, and addressed for delivery within the service area of a destination network distribution center/regional processing distribution center, sectional center facility/local processing center, or delivery unit where they are deposited by the mailer. For this standard, the following destination facility definitions apply:

a. A destination network distribution center (DNDC)/regional processing distribution center (RPDC) includes all network distribution centers (NDCs)/regional processing distribution centers (RPDCs) and auxiliary service facilities (ASFs) under L601 and L602. DNDC prices are not available for ZIP Code ranges 006-009, 967-969, and 995-999, as indicated in labeling list L601.

b. A destination sectional center facility (DSCF)/local processing center (LPC) includes all facilities in L005.

c. A destination delivery unit (DDU)/sorting & delivery center (SDC) is a facility that delivers to the addresses appearing on the deposited pieces in a destination entry Parcel Select mailing. Refer to the Drop Shipment Product maintained by the National Customer Support Center (NCSC) (see 608.8.1 for address) to determine the location of a 5-digit delivery facility.

* * * * *

265 Mail Preparation

* * * * *

1.0 General Information for Mail Preparation

* * * * *

1.4 Terms for Presort Levels

Terms used for presort levels are defined as follows: * * *

[Revise the text of items (h) through (k) to read as follows:]

h. SCF: the separation includes pieces for two or more 3-digit areas served by the same sectional center facility (SCF)/local processing center (LPC) [flats]/regional processing distribution center (RPDC) [parcels] (see L005), except that, where required or permitted by standard, mail for a single 3-digit area may be prepared in an SCF separation when no mail for other 3-digit ZIP Code areas is available. For pallets, the SCF sort may include mail for a single 3-digit ZIP Code area.

i. ADC: all pieces in the bundle, sack, or tray must destinate within the ASF/NDC/RPDC service area as described in labeling lists L601 and L602.

j. ASF/NDC: all pieces are addressed for delivery in the service area of the same auxiliary service facility (ASF)/network distribution center (NDC)/regional processing distribution center (RPDC) (see L601, L602, or L605).

k. Mixed [NDC, ADC, etc.]: the pieces are for delivery in the service area of more than one NDC/RPDC/ADC, etc.

1.5 Preparation Definitions and Instructions

For purposes of preparing mail: * * *

[Revise the text of item (h) to read as follows:]

h. An origin 3-digit (or origin 3-digit scheme) tray/sack for parcels contains all mail (regardless of quantity) for a 3-digit ZIP Code (or 3-digit scheme) area processed by the SCF/LPC (flats)/RPDC (parcels) in whose service area the mail is verified. If more than one 3-digit (or 3-digit scheme) area is served, as indicated in L005, a separate tray/sack must be prepared for each.

[Revise the text of item (k) to read as follows:]

k. Entry [facility] (or origin [facility]) refers to the USPS mail processing facility (e.g., “entry NDC/RPDC”) that serves the Post Office at which the mail is entered by the mailer. If the Post Office where the mail is entered is not the one serving the mailer's location (e.g., for plant-verified drop shipment), the Post Office of entry determines the entry facility. Entry SCF/LPC (flats)/RPDC (parcels) includes both single-3-digit and multi-3-digit SCFs. Entry NDC/RPDC includes subordinate ASFs unless otherwise specified.

[Revise the last sentence of item (n) to read as follows:]

n. * * * For pallets, 2,800 pounds of mail may be destined to an SCF/LPC (flats)/RPDC (parcels) destination, and these would form the “logical” SCF pallet, but the mail is placed on two physical SCF pallets each weighing 1,400 pounds because of the 2,200 pound maximum pallet weight requirement.

* * * * *

2.0 Bundles

* * * * *

2.4 Bundle Sizes for Irregular Parcels

[Revise the introductory paragraph of 2.4 to read as follows:]

Mailers must prepare unsacked, nonpalletized bundles of irregular parcels for DDU/SDC entry according to 203.4.10, and as follows: * * *

* * * * *

5.0 Preparing Presorted Flats

* * * * *

5.2 Bundling

5.2.1 Required Bundling

[Revise the fourth sentence of 5.2.1 to read as follows:]

* * * Five-digit bundles placed in 5-digit sacks and unsacked 5-digit bundles prepared for DDU/SDC entry may weigh a maximum of 40 pounds. * * *

* * * * *

8.0 Preparing Presorted Parcels

* * * * *

8.2 Preparing Irregular Parcels Weighing Less Than 10 Pounds

* * * * *

8.2.4 Sacking and Labeling

Preparation sequence and labeling: * * *

e. Mixed ADC (required); labeling:

[Revise item (e1) to read as follows:]

1. Line 1: L009, Column B. If placed on an ASF/NDC/RPDC pallet under option in 705.8.10.3, use L010. * * *

* * * * *

8.3 Preparing Irregular Parcels Weighing 10 Pounds or More

* * * * *

8.3.3 Sacking and Labeling

Preparation sequence and labeling: * * *

e. Mixed ADC (required); labeling:

[Revise item (e1) to read as follows:]

1. Line 1: L009, Column B. If placed on an ASF/NDC/RPDC pallet under option in 705.8.10.3, use L010. * * *

* * * * *

8.4 Preparing Machinable Parcels Not Claiming DNDC Prices

* * * * *

8.4.2 Sacking and Labeling

Preparation sequence and labeling: * * *

c. Mixed NDC (required); labeling:

[Revise item (c1) to read as follows:]

1. Line 1: “MXD” followed by the L601, Column B, information for the NDC/RPDC serving the 3-digit ZIP Code prefix of entry Post Office. * * *

8.5 Preparing Machinable Parcels Claiming DNDC Prices

* * * * *

8.5.2 Sacking and Labeling

Preparation sequence and labeling: * * *

d. Mixed NDC (required); labeling:

[Revise item (d1) to read as follows:]

1. Line 1: “MXD” followed by the L601, Column B information for the NDC/RPDC serving the 3-digit ZIP Code prefix of entry Post Office. * * *

9.0 Preparing Carrier Route Parcels

9.1 Basic Standards

9.1.1 General Standards for Carrier Route Preparation

All mailings of Carrier Route Bound Printed Matter (BPM) are subject to the standards in 9.2 through 9.4 and to these general standards: * * *

[Revise the last sentence of item (b) to read as follows:]

b. * * * Irregular parcels also are pieces that meet the size and weight standards for a machinable parcel but are not individually boxed or packaged to withstand processing on NDC/RPDC parcel sorters under 601.7.0.

* * * * *

266 Enter and Deposit

* * * * *

2.0 Presenting a Mailing

* * * * *

[Revise the title of 2.3 to read as follows:]

2.3 NDC/RPDC Acceptance

[Revise the text of 2.3 to read as follows:]

A mailer may present Bound Printed Matter at a NDC/RPDC for acceptance if:

a. Permit imprint postage is paid through an advance deposit account at the NDC/RPDC parent Post Office or another Post Office in the NDC/RPDC service area, unless otherwise permitted by standard.

b. The NDC/RPDC is authorized by Form 4410 to act as acceptance agent for the entry Post Office.

* * * * *

3.0 Destination Entry

3.1 General

[Revise the first sentence of 3.1 to read as follows:]

Destination entry prices apply to Presorted and carrier route Bound Printed Matter (BPM) that is deposited at a destination network distribution center (DNDC)/regional processing distribution center (RPDC), destination sectional center facility (DSCF)/local processing center (LPC), or destination delivery unit (DDU)/sorting & delivery center (SDC) as specified below. * * *

* * * * *

3.3 Postage Payment and Mailing Fees

Postage payment for Bound Printed Matter destination price mailings is subject to the same standards that apply generally to Bound Printed Matter and to the following:

[Revise the second sentence of item (a) to read as follows:]

a. * * * Except for plant-verified drop shipments (see 705.17.0) and eVS shipments (see 705.2.9); mailers must have a permit imprint authorization at the parent Post Office for mailings deposited for entry at a DNDC/RPDC, ASF/RPDC, DSCF/LPC (flats)/RPDC (parcels), or DDU/SDC. * * *

* * * * *

3.7 Verification

3.7.1 Mail Separation and Presentation

[Revise the second sentence of the introductory paragraph of 3.7.1 to read as follows:]

* * * Mailers may deposit only PVDS and eVS mailings at a destination delivery unit/sorting & delivery center not co-located with a Post Office or other Postal Service facility with a business mail entry unit. * * *

* * * * *

[Revise the title of 3.7.3 to read as follows:]

3.7.3 At NDC/RPDC

[Revise the text of 3.7.3 to read as follows:]

For a mailing to be verified at a NDC/RPDC, the Post Office where the mailer's account or license is held must be within the service area of that NDC/RPDC. The Post Office must authorize the NDC/RPDC to act as its agent by sending Form 4410 to the NDC/RPDC.

* * * * *

3.8 Deposit

3.8.1 Time and Location of Deposit

[Revise the last sentence of 3.8.1 to read as follows:]

* * * Mailings must be presented in vehicles that are compatible with dock, yard, and DDU/SDC operations, as applicable.

* * * * *

3.8.3 Appointments

Appointments must be made for destination entry price mail as follows:

[Revise the first sentence of item (a) to read as follows:]

a. Except as provided under 3.8.3b, or for a local mailer and mailings of perishable commodities under 3.8.12, appointments for deposit of destination entry price mail at NDCs/RPDCs, ASFs, and SCFs/LPCs must be scheduled through the appropriate drop-shipment appointment control center at least one business day in advance. * * *

[Revise the first sentence of item (c) to read as follows:]

c. For deposit of DDU/SDC mailings, an appointment must be made by contacting the DDU/SDC or through FAST, available at fast.usps.com, at least 24 hours in advance. * * *

* * * * *

3.8.4 Advance Scheduling

Mailers must schedule appointments for deposit of destination entry price mail under 3.8.3 and the conditions below. When making an appointment, or as soon as available, the mailer must provide the following information: * * *

[Revise the last sentence of item (b) to read as follows:]

b. * * * For DDU/SDC entries, the mailer also must provide the 5-digit ZIP Code(s) of the mail being deposited.

* * * * *

3.8.5 Adherence to Schedule

[Revise the last sentence of 3.8.5 to read as follows:]

* * * Destination facilities may refuse acceptance or deposit of unscheduled mailings or shipments that arrive more than 2 hours after the scheduled appointment at ASFs, NDCs/RDPCs, or SCFs/LPCs or more than 20 minutes at delivery units.

3.8.6 Redirection by USPS

[Revise the text of 3.8.6 to read as follows:]

A mailer may be directed to transport destination entry price mailings to a facility other than the designated DDU/SDC, SCF/LPC, or NDC/RPDC due to facility restrictions, building expansions, peak season mail volumes, or emergency constraints.

3.8.7 Redirection at Mailer's Request

[Revise the text of 3.8.7 to read as follows:]

A mailer may ask to transport destination SCF price mail to a facility other than the designated SCF/LPC (flats)/RPDC (parcels). In very limited circumstances, this exception may be approved only by the manager, Network Integration Support (see 608.8.0 for address). To qualify for the SCF price in this situation, mail deposited at a facility other than the SCF/LPC/RPDC must destinate for processing within that facility and must not require backhauling to the SCF/LPC/RPDC.

* * * * *

4.0 Destination Network Distribution Center (DNDC) Entry

4.1 Eligibility

[Revise the introductory paragraph of 4.1 to read as follows:]

Pieces in a mailing meeting the standards in 3.0 and 4.0 that are deposited at a NDC/ASF/RPDC are eligible for the DNDC price when they meet all of the following conditions: * * *

[Revise items (b) through (e) to read as follows:]

b. The pieces are addressed for delivery to one of the 3-digit ZIP Codes served by the NDC/ASF/RPDC where deposited that are listed, and according to the terms described, in labeling lists L601 and L602.

c. The pieces are placed in a sack or on a pallet labeled to the NDC/ASF/RPDC where deposited, or labeled to a postal facility within that NDCs/ASFs/RPDCs service area, as described in L601 and L602.

d. Except for machinable parcels addressed to ZIP Codes served by the Buffalo NY ASF, mail addressed to ZIP Codes served by an ASF/RPDC must be entered at the appropriate ASF per L602, and not entered at an NDC/RPDC.

e. Are entered at designated SCFs/RPDCs under 4.3.

* * * * *

[Revise the title of 4.3 to read as follows:]

4.3 Acceptance at Designated SCF—Mailer Benefit

[Revise the introductory paragraph of 4.3 to read as follows:]

Mailers may deposit machinable parcels otherwise eligible for the DNDC prices at an SCF/RPDC designated by the USPS for destination ZIP Codes listed in labeling list L607. The following standards apply: * * *

[Revise item (e) to read as follows:]

e. All DNDC price parcels must be for delivery within the service area of the SCF/RPDC where they are deposited by the mailer.

* * * * *

4.4 Presorted Machinable Parcels

[Revise the introductory paragraph of 4.4 to read as follows:]

Presorted machinable parcels in sacks or on pallets at all sort levels may claim DNDC prices. Machinable parcels sacked under 265.8.0, or palletized under 705.8.0 may be sorted to destination NDCs/RPDCs under L601 or to destination NDCs/ASFs/RPDCs under L601 and L602. Except as provided in L602, sortation of machinable parcels to ASFs/RPDCs is optional but is required for the ASF mail to be eligible for DNDC prices. Mailers may opt to sort some or all machinable parcels for ASF/RPDC service area ZIP Codes to ASFs/RPDCs only when the mail will be deposited at the respective ASFs/RPDCs where the DNDC prices are claimed, under applicable volume standards, using L602. Mailers also may opt to sort machinable parcels only to destination NDCs/RPDCs under L601. When machinable parcels are sorted under L601, mail for 3-digit ZIP Codes served by an ASF/RPDC is not eligible for DNDC prices, nor are 3-digit ZIP Codes that appear in footnote 2 in L601. Machinable parcels prepared in mixed NDC sacks or on mixed NDC pallets that are sorted to the origin NDC/RPDC under 265.8.0 or 705.8.0, are eligible for the DNDC prices if both of the following conditions are met:

[Revise item 4.4 (a) to read as follows:]

a. The mixed NDC sack or pallet is entered at the origin NDC/RPDC facility to which it is labeled.

* * * * *

4.5 Presorted Irregular Parcels

[Revise the second sentence of 4.5 to read as follows:]

* * * All pieces in an ADC/RPDC sack or in a palletized ADC/RPDC bundle are eligible for the DNDC price if the ADC/RPDC facility ZIP Code (as shown in Line 1 of the corresponding sack label or the ADC/RPDC facility that is the destination of the palletized ADC/RPDC bundle as would be shown on an ADC/RPDC sack label for that facility using L004, Column B) is within the service area of the NDC/RPDC at which the sack is deposited. * * *

* * * * *

[Revise the title of 5.0 to read as follows:]

5.0 Destination Sectional Center Facility (DSCF)/Local Processing Center (LPC) Entry

5.1 Eligibility

Bound Printed Matter pieces in a mailing meeting the standards in 3.0 are eligible for the DSCF price when they meet all of the following additional conditions: * * *

[Revise items (b) and (c) to read as follows:]

b. Are deposited at a DSCF/LPC (flats)/RPDC (parcels) listed in L005 or a USPS-designated facility and are addressed for delivery within the DSCF's/LPC's/RPDC's service area.

c. Are placed in a sack or on a pallet that is labeled to the DSCF/LPC/RPDC or labeled to a destination within its service area. This includes sacks labeled to an ADC/RPDC facility with the exact same service area as the DSCF/LPC/RPDC.

* * * * *

[Revise the title of 6.0 to read as follows:]

6.0 Destination Delivery Unit (DDU)/Sorting & Delivery Center (SDC) Entry

6.1 Eligibility

Pieces in a mailing meeting the standards in 3.0, and 6.0 are eligible for the DDU price when they meet all of the following conditions: * * *

c. Are deposited:

[Revise items (c1) and (c2) to read as follows:]

1. For Carrier Route flats, at the DDU/SDC where the carrier cases the mail, as shown in the Drop Shipment Product.

2. For Presorted flats, the Drop Shipment Product must be used to determine the correct destination entry facility for the 5-digit sorted flats entered at Presorted prices. If the Drop Shipment Product lists multiple facilities for a single 5-digit ZIP Code, then the mailer must inquire about the correct drop site when contacting the DDU/SDC to schedule an appointment.

[Revise the sixth sentence of item (d) to read as follows:]

d. * * * If a mailer transports mail to a DDU/SDC facility that cannot handle pallets, the driver must unload the pallets into containers as specified by the delivery unit.

* * * * *

270 Commercial Mail Media Mail and Library Mail

273 Prices and Eligibility

* * * * *

7.0 Price Eligibility for Media Mail and Library Mail

* * * * *

7.3.2 Parcels

The price categories for parcels are as follows: * * *

[Revise the last sentence of item (b) to read as follows:]

b. * * * Nonmachinable parcels may qualify for the basic price if prepared to preserve sortation by NDC/RDPC as prescribed by the postmaster of the mailing office.

* * * * *

275 Mail Preparation

* * * * *

1.0 General Information for Mail Preparation

* * * * *

1.3 Terms for Presort Levels

Terms used for presort levels are defined as follows: * * *

[Revise items (f) through (h) to read as follows:]

f. ADC: all pieces are addressed for delivery in the service area of the same area distribution center (ADC)/regional processing distribution center (RPDC) (see L004).

g. ASF/NDC for parcels: all pieces are addressed for delivery in the service area of the same auxiliary service facility (ASF)/network distribution center (NDC)/regional processing distribution center (RPDC) (see L601, L602, or L605).

h. Mixed [NDC, ADC, etc.]: the pieces are for delivery in the service area of more than one NDC/ADC/RPDC, etc.

* * * * *

6.0 Preparing Media Mail and Library Mail Parcels

* * * * *

6.2 Preparing Machinable Parcels

* * * * *

6.2.2 Sacking and Labeling

Preparation sequence and labeling: * * *

c. Mixed NDC: required (no minimum).

[Revise item (c1) to read as follows:]

1. Line 1: “MXD” followed by the L601, Column B information for the NDC/RPDC serving the 3-digit ZIP Code of entry Post Office. * * *

* * * * *

6.3 Preparing Irregular Parcels

* * * * *

6.3.4 Sacking and Labeling

Preparation sequence and labeling: * * *

d. Mixed ADC: required (no minimum).

[Revise item (d1) to read as follows:]

1. Line 1: “MXD” followed by city, state, and ZIP Code of ADC/RPDC serving 3-digit ZIP Code prefix of entry Post Office, as shown in L004. If placed on an ASF/NDC/RPDC pallet under option in 705.8.10.5, use L010. * * *

* * * * *

505 Return Services

1.0 Business Reply Mail (BRM)

1.1 BRM Postage and Fees

* * * * *

1.1.3 Basic Qualified BRM (QBRM)

[Add a sentence at the end of 1.1.3 to read as follows:]

* * * Basic QBRM permits that meet the requirements under 1.6.3 are eligible for waived account maintenance fees and a reduced per-piece fee.

1.1.4 High-Volume Qualified BRM

[Add a sentence at the end of 1.1.4 to read as follows:]

* * * High-Volume QBRM permits meeting the requirements under 1.6.3 are eligible for waived annual account maintenance and quarterly fees, and a reduced per-piece fee.

* * * * *

1.6 Additional Standards for Qualified Business Reply Mail (QBRM)

* * * * *

[Add new section 1.6.3 to read as follows:]

1.6.3 Intelligent Mail Barcode Accounting (IMbA)

Intelligent Mail Barcode Accounting (IMbA) is an automated solution for the counting, rating, invoicing and billing processes of QBRM mailpieces. Participation in IMbA requires that QBRM permits be linked to an Enterprise Payment Account (EPA) for automated invoicing. QBRM permits that have completed the onboarding process and consistently meet the requirements of IMbA are eligible for subsequent annual account maintenance and quarterly fee waivers, if applicable. Once enrolled in IMbA, QBRM permits receive a reduced QBRM IMbA per-piece fee. For more information, see PostalPro at https://postalpro.usps.com/.

* * * * *

600 Basic Standards for All Mailing Services

601 Mailability

Overview

[Add a heading titled “10.0 Catalogs”]

* * * * *

[Add a section 601.10 to read as follows:]

10.0 Catalogs

A catalog is a bound (stapled, stitched, glued or fastened together along one edge) mailpiece with at least 12 pages, providing an organized listing of products or services offered for sale. A catalog mailpiece may be letter-shaped, flat-shaped or parcel-shaped, and is mailed at USPS Marketing Mail or Bound Printed Matter rates.

The product listing must include images, photographs or illustrations of the products or services, descriptive details, fulfillment information and prices or contain an alternate method for the reader to determine prices. Catalogs must contain enough information to allow an order to be placed, e.g., an order form, a phone number, a web address, or the means to access a web address. Catalogs will also enable fulfillment options for the products or services offered for sale.

602 Addressing

* * * * *

3.0 Use of Alternative Addressing

* * * * *

3.2 Simplified Address

3.2.1 Conditions for General Use

The following conditions must be met when using a simplified address on commercial mailpieces: * * *

[Revise the introductory text of item (b) to read as follows:]

b. USPS Marketing Mail, Periodicals, and Bound Printed Matter flat-size mailpieces (including USPS Marketing Mail pieces allowed as flats under 3.2.1c), and Periodicals irregular parcels for distribution to a city route or to Post Office boxes in offices with city carrier service may bear a simplified address, but only when complete distribution is made under the following conditions: * * *

* * * * *

4.0 Detached Address Labels (DALs) and Detached Marketing Labels (DMLs)

* * * * *

4.2 Eligible Mail

* * * * *

[Delete item 4.2.2 in its' entirety and renumber 4.2.3 as 4.2.2:]

[Newly renumbered 4.2.2]

4.2.2 Bound Printed Matter

Unaddressed pieces of Bound Printed Matter may be mailed with DALs or DMLs when:

[Revise the second sentence of item (a) to read as follows:]

a. * * * The destination delivery unit (DDU)/sorting & delivery center (SDC) is determined using the Drop Shipment Product under the provisions for the DDU price in 266.3.0 through 266.6.0. * * *

* * * * *

4.4 Mail Preparation

* * * * *

4.4.2 Basic Standards for DALs and DMLs

[Revise the text of 4.4.2 to read as follows:]

The DALs or DMLs must be presorted, counted, and prepared by 5-digit ZIP Code delivery area. Only DALs or DMLs for the same 5-digit area may be placed in the same carton, sack, or tray. DAL or DML mailings claimed at carrier route basic or walk-sequence prices must be further prepared under the corresponding standards. Mailers must prepare DALs or DMLs as bundles in sacks or in cartons, unless prepared in trays under 4.4.6 when mailed with saturation flats. Different size cartons may be used in the same mailing, but each must be filled with dunnage as necessary to ensure that the DALs or DMLs retain their orientation and presort integrity while in transit. Each carton of DALs or DMLs must bear a label showing the information in 4.4.5 unless a mailing identification number is used (see 4.4.1). Multiple containers of DALs or DMLs must be numbered sequentially (“1 of __,” “2 of __,” etc.).

4.4.3 Basic Standards for Items Distributed With DALs and DMLs

[Revise the text of 4.4.3 to read as follows:]

Except for bundles of saturation flats placed directly on pallets under 4.4.7, the items to be distributed with DALs or DMLs must be placed in cartons or prepared in bundles placed in flat trays/sacks, subject to the standards for the price claimed. A label bearing the content description information in 4.4.5 must be affixed to each carton, trayed/sacked bundle, or pallet unless a mailing identification number is used (see 4.4.1). Cartons of items (including those on pallets) may be of different sizes but must be filled with dunnage as necessary to ensure the integrity of the items while in transit. The gross weight of each carton or flat tray/sack must not be more than 40 pounds.

* * * * *

4.4.6 Optional Tray and Bundle Preparation

[Revise the text of 4.4.6 to read as follows:]

Mailers may prepare DALs or DMLs in letter trays according to 245.9.0 when DALs or DMLs are used in mailings of saturation flats. Bundles of saturation flats to be distributed with DALs or DMLs may be prepared on 5-digit pallets under 4.4.7. Do not use pallets when the Drop Shipment Product indicates the delivery unit that serves the 5-digit pallet destination cannot handle pallets. For such delivery units, mail with DALs or DMLs must be prepared in cartons, flat trays, or sacks. The tray(s) of corresponding DALs or DMLs must be placed on top of the accompanying pallet of flats, and the pallet contents must be secured with stretchwrap to avoid separation in transportation and processing. All containers must be labeled according to 4.4.5.

4.4.7 Optional Container Preparation

[Revise the text of 4.4.7 to read as follows:]

Bundles of flats and cartons, flat trays, or sacks of items may be placed on pallets meeting the standards in 705.8.0. Cartons or trays of DALs or DMLs must be placed on pallets with the corresponding items under 4.4 and 705.8.0. The USPS plant manager at whose facility a DAL or DMLS mailing is deposited may authorize other containers for the portion of the mailing to be delivered in that plant`s service area.

* * * * *

4.6 Postage

* * * * *

4.6.2 Postage Computation and Payment

Postage is computed based on the combined weight of the item and the accompanying DAL or DML. If the number of DALs/DMLs and items mailed is not identical, the number of pieces used to determine postage is the greater of the two. No postage refund is allowed in these situations. In addition, these methods of postage payment apply: * * *

[Revise the text of item (c) to read as follows:]

c. A surcharge applies to each DAL or DML used in a USPS Marketing Mail flats mailing.

* * * * *

7.0 Carrier Route Accuracy Standard

7.1 Basic Standards

[Revise the introductory text of 7.1 to read as follows:]

The carrier route accuracy standard is a means of ensuring that the carrier route code correctly matches the delivery address information. For the purposes of this standard, address means a specific address associated with a specific carrier route code. Addresses used on pieces claiming any Periodicals carrier route prices, any USPS Marketing Mail Enhanced Carrier Route prices, or any Bound Printed Matter carrier route prices are subject to the carrier route accuracy standard and must meet the following requirements: * * *

* * * * *

700 Special Standards

703 Nonprofit USPS Marketing Mail and Other Unique Eligibility

* * * * *

9.0 Mixed Classes

* * * * *

9.9 Postage Payment for Enclosure in Periodicals Publication

* * * * *

9.9.8 Computing Permit Imprint Postage

[Revise the third sentence of 9.9.8 to read as follows:]

* * * For example, a USPS Marketing Mail enclosure is eligible for the SCF entry discount if the publication is deposited at the destinating SCF/LPC. * * *

* * * * *

11.0 Commercial Plus One Mailpieces

11.1 Definition

The commercial mail Plus One product is a bundled offering, including a host mailpiece and a Plus One card. Both the host mailpiece and the Plus One card must meet the applicable basic standards of a USPS Marketing Mail saturation letter as specified in 245.6.0, be entered at a destination sectional center facility, and meet automation standards with a correct mailing address and Intelligent Mail barcode. The Plus One mailpiece (card) must meet the following additional standards: * * *

[Revise item 11.1(d) to read as follows:]

d. Must not exceed 6 inches long by 11 inches high.

* * * * *

705 Advanced Preparation and Special Postage Payment Systems

* * * * *

5.0 First-Class Mail or USPS Marketing Mail Mailings With Different Payment Methods

* * * * *

5.2 Postage

* * * * *

5.2.6 Single-Piece Price Mail

[Revise the text of 5.2.6 to read as follows:]

With USPS approval, trays of single-piece price mail may be placed on the origin SCF/LPC pallet (First-Class Mail), or the mixed NDC pallet (USPS Marketing Mail), after USPS verification is completed.

* * * * *

8.0 Preparing Pallets

* * * * *

8.10.3 USPS Marketing Mail or Parcel Select Lightweight—Bundles, Sacks, or Trays * * *

* * * * *

Mailers must prepare pallets under 8.0 in the sequence listed below and complete each required level before preparing the next optional or required level. For USPS Marketing Mail High Density and High Density Plus flats price eligibility, only 5-digit pallets under 8.10.3a through 8.10.3c are allowed, and the pallets must be entered under None, DNDC, DSCF, or DDU standards. (Use “HD/HD+ DIRECT” for one route and “HD/HD+ CR-RTS” for multiple routes on the line 2 contents description.) Unless indicated as optional, all sort levels are required. For parcels, use this preparation only for irregular parcels in sacks. Palletize unbundled or unsacked irregular parcels under 8.10.8. Pallets must be labeled according to the Line 1 and Line 2 information listed below and under 8.6. Mailers also may palletize bundles of USPS Marketing Mail flats under 10.0, 12.0, or 13.0. Preparation sequence and labeling: * * *

[Revise item c(2) to read as follows:]

2. Line 2: For flats only, “STD FLTS” or “STD MKTG,” as applicable; followed by “HD/HD+” for High Density and High Density Plus flats pricing eligibility; followed by “CARRIER ROUTES” (or “CR-RTS”). For letters, “STD LTRS”; followed by “CARRIER ROUTES” (or “CR-RTS”); followed by “BC” if the pallet contains barcoded letters; followed by “MACH” if the pallet contains machinable letters; followed by “MAN” if the pallet contains nonmachinable letters. * * *

[Revise introductory text of item (d) to read as follows:]

d. 3-digit, optional, option not available for parcels or for bundles for 3-digit ZIP Code prefixes marked “N” in L002. Pallet may contain mail for the same 3-digit ZIP Code or the same 3-digit scheme under L008 (for automation-compatible flats only under 201.3.0. Three-digit scheme bundles are assigned to pallets according to the “label to” 3-digit ZIP Code in L008. Labeling: * * *

[Delete the last sentence of item e(2) beginning with “For Marketing . . .”:]

* * * * *

9.0 Combining Bundles of Automation and Nonautomation Flats in Flat Trays and Sacks

9.1 First-Class Mail

* * * * *

9.1.4 Tray Preparation and Labeling

Presorted price and automation price bundles prepared under 9.1.2 or 9.1.3 must be presorted together into trays (cotrayed) in the sequence listed below. Trays must be labeled using the following information for Lines 1 and 2 and 235.4.0 for other sack label criteria. * * *

[Revise the introductory text of item (c) to read as follows:]

c. Origin/entry 3-digit, required for each 3-digit ZIP Code served by the SCF/LPC of the origin (verification) office, optional for each 3-digit ZIP Code served by the SCF/LPC of an entry office other than the origin office, no minimum; labeling: * * *

[Revise the introductory text of item (d) to read as follows:]

d. ADC, required, full trays only (no overflow trays); use L004 to determine ZIP Codes served by each ADC/RPDC; labeling: * * *

9.2 Periodicals

* * * * *

9.2. Bundles With Fewer Than Six Pieces

[Revise the text of 9.2.3 to read as follows:]

5-digit and 3-digit bundles prepared under 207.22.0 and 207.25.0 may contain fewer than six pieces when the publisher determines that such preparation improves service. These low-volume bundles may be placed in 5-digit, 3-digit, and SCF flat trays that contain at least 24 pieces, or on 5-digit, 3-digit, or SCF/LPC pallets. Mailers of pieces in low-volume bundles must claim the applicable mixed ADC price (Outside-County) or basic price (In-County). 207.22.0 and 207.25.0 may contain fewer than six pieces when the publisher determines that such preparation improves service. These low-volume bundles may be placed in 5-digit, 3-digit, and SCF sacks/flat trays that contain at least 24 pieces or on 5-digit, 3-digit, or SCF/LPC pallets. Pieces in low-volume bundles must claim the applicable mixed ADC price (Outside-County) or basic price (In-County).

9.2.4 Optional Sack Preparation and Labeling

[Revise the introductory paragraph of 9.2.4 to read as follows:]

Optional sack preparation and labeling are allowed for nonpalletized residual 5-digit flats entered at the DDU/SDC along with carrier route flats, nonpalletized 5-digit flats entered at the DSCF/LPC (origin) and nonpalletized 3-digit/SCF flats entered at the DSCF/LPC (origin). DSCF/LPC (origin) 5-digit and 3-digit/SCF sacks must be entered at the BMEU and emptied into a designated container. Machinable barcoded price and machinable nonbarcoded price bundles must be presorted together into sacks (cosacked) in the sequence listed below. Sacks must be labeled using the following information for Lines 1 and 2 and 207.21.0 for other sack-label criteria. If, due to the physical size of the mailpieces, the machinable barcoded price pieces are considered flat-size under 201.6.0 and the machinable nonbarcoded price pieces are considered irregular parcels under 201.7.6, the processing category shown on the sack label must show “FLTS.” Preparation sequence and labeling: * * *

9.2.5 Flay Tray Preparation—Flat-Size Machinable Pieces

[Revise the introductory paragraph of 9.2.5 to read as follows:]

See 207.20.0 for use of flat trays. For machinable pieces meeting the criteria in 201.6.0, mailers must bundle or group all pieces as specified in 207.25.0 and 207.22.0 for each 5-digit scheme, 5-digit, 3-digit scheme, 3-digit, SCF/LPC, and ADC destination. Bundling in flat trays is optional, and any bundles must be trayed and labeled separately from loose flats prepared in flat trays. The trays are subject to a container charge, and any bundles are subject to a bundle charge. Tray preparation, sequence, and labeling: * * *

* * * * *

9.3 USPS Marketing Mail

* * * * *

9.3.5 Flat Tray/Sack Preparation and Labeling

[Revise the introductory paragraph of 9.3.5 to read as follows:]

Presorted price and automation price bundles prepared under 9.3.2 and 9.3.3 must be presorted together into flat trays (cotrayed) or sacks (when applicable) in the sequence listed below. Flat trays/sacks must be labeled using the following information for Lines 1 and 2, and 245.4.0 for other flat-tray label criteria. Sacks are only allowed for nonpalletized residual 5-digit flats entered at the DDU/SDC along with carrier route flats, nonpalletized 5-digit flats entered at the DSCF/LPC (origin), and nonpalletized 3-digit/SCF flats entered at the DSCF/LPC (origin). DSCF/LPC (origin) 5-digit and 3-digit/SCF sacks must be entered at the BMEU and emptied into a designated container. * * *

[Revise the introductory text of item (c) to read as follows:]

c. Origin/entry 3-digit, required for each 3-digit ZIP Code served by the SCF/LPC of the origin (verification) office, optional for each 3-digit ZIP Code served by the SCF/LPC of an entry office other than the origin office, no minimum; labeling: * * *

[Revise the introductory text of item (d) to read as follows:]

d. ADC, required, full tray/125-piece/15-pound minimum; use L004 to determine ZIP Codes served by each ADC/RPDC; labeling: * * *

* * * * *

10.0 Merging Bundles of Flats Using the City State Product

10.1 Periodicals

* * * * *

10.1.3 Bundles With Fewer Than Six Pieces

Carrier route, 5-digit scheme, 5-digit, 3-digit scheme, and 3-digit bundles may contain fewer than six pieces when the publisher determines that such preparation improves service. Pieces in these low-volume bundles must be claimed at the applicable mixed ADC price (Outside-County) or basic price (In-County). Low-volume bundles are permitted only when they are sacked (as applicable), trayed, or prepared on pallets as follows:

a. Place low-volume carrier route, 5-digit, 3-digit scheme, and 3-digit bundles in only the following containers: * * *

[Revise items (a3) and (a4) to read as follows:]

3. Origin/entry SCF/LPC flat trays.

4. On merged 5-digit scheme, 5-digit scheme carrier routes, 5-digit scheme, merged 5-digit, 5-digit carrier routes, 5-digit, 3-digit, or SCF/LPC pallets, as appropriate.

[Revise item (b) to read as follows:]

b. Place low-volume 5-digit scheme bundles in only 5-digit scheme, 3-digit, and SCF flat trays that contain at least 24 pieces, or in origin/entry SCF/LPC flat trays, or on 3-digit or SCF/LPC pallets, as appropriate.

* * * * *

10.1.5 Pallet Preparation and Labeling

* * * Mailers must label pallets according to the Line 1 and Line 2 information listed below and under 8.6.

* * * * *

[Revise item (g) to read as follows:]

g. SCF/LPC through mixed ADC, use 8.10.2h through 8.10.2k, as applicable, to prepare and label SCF/LPC, ADC/RPDC, Origin Mixed ADC (OMX) and mixed ADC pallet levels.

* * * * *

10.2 USPS Marketing Mail

* * * * *

10.2.5 Pallet Preparation and Labeling

* * * Mailers must label pallets according to the Line 1 and Line 2 information listed below and under 8.6.

* * * * *

[Revise the introductory text of item (g) to read as follows:]

g. SCF/LPC, required, may contain carrier route price, automation price, and Presorted price bundles. Labeling: * * *

[Revise the introductory text of item (h) to read as follows:]

h. ASF, required, except that an ASF sort may not be required if using bundle reallocation under 8.13.3. May contain carrier route price, automation price, and/or Presorted price bundles. Sort ADC bundles to ASF/RPDC pallets based on the “label to” ZIP Code for the ADC/RPDC destination of the bundle in L004. At the mailer's option, sort appropriate mixed ADC bundles to ASF/RPDC pallets based on the “label to” ZIP Code for the ADC/RPDC destination of the bundle in L010. All optional mixed ADC bundles on ASF/RPDC pallets must contain only pieces destinating within the ASF/RPDC as shown in 6.3. See 246.3.0 for additional requirements for DNDC price eligibility. Labeling: * * *

[Revise the introductory text of item (i) to read as follows:]

i. NDC/RPDC, required, may contain carrier route price, automation price, and/or Presorted price bundles. Sort ADC bundles to NDC/RPDC pallets based on the “label to” ZIP Code for the ADC destination of the bundle in L004. At the mailer's option, sort appropriate mixed ADC bundles to NDC/RPDC pallets based on the “label to” ZIP Code for the ADC destination of the bundle in L010. All optional mixed ADC bundles on NDC/RPDC pallets must contain only pieces destinating within the NDC/RPDC as shown in 6.3. See 246.3.0 for additional requirements for DNDC price eligibility. Labeling: * * *

11.0 Combining Automation Price and Nonautomation Price Flats in Bundles

* * * * *

11.2 Periodicals

* * * * *

11.2.3 Bundles With Fewer Than Six Pieces

* * * Low-volume bundles are permitted only when they are trayed or prepared on pallets as follows:

a. Place low-volume 5-digit and 3-digit bundles in only 5-digit scheme, 5-digit, 3-digit, and SCF flat trays that contain at least 24 pieces; or in origin/entry SCF/LPC flat trays; or on the following pallets, as appropriate:

* * * * *

[Revise item (a6) to read as follows:]

6. SCF/LPC

[Revise item (b) to read as follows:]

b. Place low-volume 5-digit scheme and 3-digit scheme bundles in only 5-digit scheme, 3-digit, and SCF flat trays that contain at least 24 pieces, or in origin/entry SCF/LPC flat trays, or on 3-digit or SCF/LPC pallets, as appropriate.

* * * * *

12.0 Merging Bundles of Flats on Pallets Using a 5 Percent Threshold

12.1 Periodicals

* * * * *

12.1.5 Pallet Preparation and Labeling

* * * Prepare and label pallets as follows:

* * * * *

[Revise the text of item 12.1.5(h) to read as follows:]

h. SCF/LPC through mixed ADC, use 8.10.2h through 8.10.2k, as applicable, to prepare and label SCF/LPC, ADC/RPDC, Origin Mixed ADC (OMX) and mixed ADC pallet levels.

12.2 USPS Marketing Mail

* * * * *

12.2.3 Pallet Preparation and Labeling

* * * Mailers must label pallets according to the Line 1 and Line 2 information listed below and under 8.6.

* * * * *

[Revise the introductory text of item (g) to read as follows:]

g. SCF/LPC, required, may contain carrier route price, automation price, and Presorted price bundles. Labeling: * * *

[Revise the introductory text of item (h) to read as follows:]

h. ASF, required, except that an ASF sort may not be required if using bundle reallocation under 8.13.3. May contain carrier route price, automation price, and/or Presorted price bundles. Sort ADC bundles to ASF/RPDC pallets based on the “label to” ZIP Code for the ADC/RPDC destination of the bundle in L004. At the mailer's option, sort appropriate mixed ADC bundles to ASF/RPDC pallets based on the “label to” ZIP Code for the ADC/RPDC destination of the bundle in L010. All optional mixed ADC bundles on ASF/RPDC pallets must contain only pieces destinating within the ASF/RPDC as shown in 6.3. See 246.3.0 for additional requirements for DNDC price eligibility. Labeling: * * *

[Revise the introductory text of item (i) to read as follows:]

i. NDC/RPDC, required, may contain carrier route price, automation price, and/or Presorted price bundles. Sort ADC bundles to NDC/RPDC pallets based on the “label to” ZIP Code for the ADC destination of the bundle in L004. At the mailer's option, sort appropriate mixed ADC bundles to NDC/RPDC pallets based on the “label to” ZIP Code for the ADC/RPDC destination of the bundle in L010. All optional mixed ADC bundles on NDC/RPDC pallets must contain only pieces destinating within the NDC/RPDC as shown in 6.3. See 246.3.0 for additional requirements for DNDC price eligibility. Labeling: * * *

* * * * *

13.0 Merging Bundles of Flats on Pallets Using the City State Product and a 5 Percent Threshold

13.1 Periodicals

* * * * *

13.1.5 Pallet Preparation and Labeling

* * * Prepare and label pallets as follows:

* * * * *

[Revise item (h) to read as follows:]

h. SCF/LPC through mixed ADC, use 8.10.2h through 8.10.2k, as applicable, to prepare and label SCF/LPC, ADC/RPDC, Origin Mixed ADC (OMX) and mixed ADC pallet levels.

13.2 USPS Marketing Mail

* * * * *

13.2.4 Pallet Preparation and Labeling

* * * Mailers must label pallets according to the Line 1 and Line 2 information listed below and under 8.6.

* * * * *

[Revise the introductory text of item (g) to read as follows:]

g. SCF/LPC, required, may contain carrier route price, automation price, and Presorted price bundles. Labeling: * * *

[Revise the introductory text of item (h) to read as follows:]

h. ASF, required, except that an ASF sort may not be required if using bundle reallocation under 8.13.3. May contain carrier route price, automation price, and/or Presorted price bundles. Sort ADC bundles to ASF/RPDC pallets based on the “label to” ZIP Code for the ADC destination of the bundle in L004. At the mailer's option, sort appropriate mixed ADC bundles to ASF/RPDC pallets based on the “label to” ZIP Code for the ADC destination of the bundle in L010. All optional mixed ADC bundles on ASF/RPDC pallets must contain only pieces destinating within the ASF/RPDC as shown in 6.3. See 246.3.0 for additional requirements for DNDC price eligibility. Labeling: * * *

[Revise the introductory text of item (i) to read as follows:]

i. NDC/RPDC, required, may contain carrier route price, automation price, and/or Presorted price bundles. Sort ADC bundles to NDC/RPDC pallets based on the “label to” ZIP Code for the ADC destination of the bundle in L004. At the mailer's option, sort appropriate mixed ADC bundles to NDC/RPDC pallets based on the “label to” ZIP Code for the ADC destination of the bundle in L010. All optional mixed ADC bundles on NDC/RPDC pallets must contain only pieces destinating within the NDC/RPDC as shown in 6.3. See 263.2.0 for additional requirements for DNDC price eligibility. Labeling: * * *

* * * * *

15.0 Combining USPS Marketing Mail Flats, Bound Printed Matter Flats, and Periodicals Flats

15.1 Basic Standards

15.1.1 General

Authorized mailers may combine USPS Marketing Mail flats, Bound Printed Matter flats, and Periodicals flats in a single mailing as follows: * * *

h. Each comailing containing Bound Printed Matter flats must meet the following requirements:

[Revise items (h1) and (h2) to read as follows:]

1. Except under 15.1.1h2, BPM flat-sized pieces must not weigh more than 20 ounces when combined in applicable bundles, and must be entered at a destination sectional center facility (DSCF)/local processing center (LPC) on 5-digit or 3-digit/sectional center facility (SCF) level pallets, or at a destination delivery unit (DDU)/sorting & delivery center (SDC).

2. BPM flat-sized pieces may weigh up to 24 ounces when combined in carrier-route (CR) level bundles on a pallet included in no less than SCF/3D sortation entered at an SCF/LPC. BPM flat-sized pieces must not exceed 20 ounces if prepared in the CR level bundle with certain Periodicals pieces that may weigh more than 20 ounces. The maximum number of BPM pieces weighing more than 20 ounces up to the maximum of 24 ounces must not exceed 50 percent of each mailing.

* * * * *

15.1.10 Other Periodicals Pricing

Other prices for Periodicals flats in a combined mailing of USPS Marketing Mail and Periodicals flats on pallets will be assessed as follows: * * *

[Revise items (a) and (b) to read as follows:]

a. The bundle prices applicable to the ADC/RPDC container level will be applied to the ASF/NDC/RPDC container levels.

b. The container prices applicable to the ADC/RPDC pallet level will apply to the ASF/NDC/RPDC pallet levels. * * *

c. The bundle price applicable to the ADC bundle placed on the ADC/RPDC container level will apply to mixed ADC bundles placed on mixed NDC pallets. * * *

[Revise the title of 15.1.11 to read as follows:]

15.1.11 Bundle Reallocation To Protect the SCF/LPC or NDC/RPDC Pallet

[Revise 15.1.11 to read as follows:]

Mailers may reallocate bundles under 8.11 or 8.13 to protect the SCF/LPC or NDC/RPDC pallet.

* * * * *

15.2 Combining USPS Marketing Mail Flats, Bound Printed Matter Flats, and Periodicals Flats in the Same Bundle

* * * * *

15.2.3 Pallet Presort and Labeling

[Revise the first sentence of 15.2.3 to read as follows:]

Mailers must prepare pallets according to the standards in 8.0 and in the sequence listed below. Merged 5-digit scheme through NDC/RPDC pallets must contain at least 250 pounds of combined USPS Marketing Mail and Periodicals mailpieces, except as allowed under 8.5.3. * * *

* * * * *

15.3 Combining Bundles of USPS Marketing Mail Flats, Bound Printed Matter Flats, and Periodicals Flats on the Same Pallet

* * * * *

15.3.3 Pallet Presort and Labeling

[Revise the first sentence of 15.3.3 to read as follows:]

Mailers must prepare pallets according to the standards in 8.0 and in the sequence listed below. Merged 5-digit scheme through NDC/RPDC pallets must contain at least 250 pounds of combined USPS Marketing Mail and Periodicals, except as allowed under 8.5.3. * * *

* * * * *

15.4 Pallet Preparation

15.4.1 Pallet Preparation, Sequence and Labeling

When combining USPS Marketing Mail, Bound Printed Matter, and Periodicals flats within the same bundle or combining bundles of USPS Marketing Mail flats, Bound Printed Matter flats and bundles of Periodicals flats on pallets, bundles must be placed on pallets. For labeling, “STD/BPM/PER FLTS”, as applicable' means to label each individual pallet based on the classes of mailpieces on that individual pallet. As an example, in a combined mailing of USPS Marketing Mail, Bound Printed Matter, and Periodicals flats, some pallets may be labeled “STD/BPM/PER” while others might properly be labeled “STD/BPM,” “STD/PER,” “BPM/PER,” or even “STD,” “BPM,” or “PER.” Preparation, sequence and labeling: * * *

[Revise the introductory text of item (g) to read as follows:]

g. SCF/LPC, required. Pallet may contain carrier route, automation or Presorted mail for the 3-digit ZIP Code groups in L005. Labeling: * * *

[Revise the introductory text of item (i) to read as follows:]

i. NDC/RPDC, required. Pallet may contain carrier route, automation or presorted mail for the 3-digit ZIP Code groups in L601. ADC bundles are assigned to pallets according to the “label to” ZIP Code in L004 as appropriate. Labeling: * * *

[Revise the introductory text of item (j) to read as follows:]

j. Mixed NDC, required, 100 pound minimum. Pallet may contain carrier route, automation or presorted mail. Pallet includes MXD ADC bundles, prepared according to the “label to” ZIP in L009, as appropriate. Unless authorized by the processing and distribution manager, pallet must be entered at the NDC/RPDC serving the 3-digit ZIP Code of the entry Post Office. Labeling:

[Revise item (j1) to read as follows:]

1. Line 1: “MXD” followed by the information in L601, for the NDC/RPDC serving the 3-digit ZIP Code prefix of the entry Post Office. * * *

* * * * *

23.0 Full-Service Automation Option

* * * * *

23.2 General Eligibility Standards

First-Class Mail (FCM), Periodicals, and USPS Marketing Mail, cards (FCM only), letters (except letters using simplified address format) and flats meeting eligibility requirements for automation or carrier route prices (except for USPS Marketing Mail ECR saturation flats), and Bound Printed Matter presorted or carrier route barcoded flats, are potentially eligible for full-service incentives. Additionally, all pieces entered under full-service pricing must: * * *

[Revise the first sentence of item 23.2 (e) to read as follows:]

a. Be scheduled for an appointment using the Facility Access and Shipment Tracking (FAST) system for dropship mailings (except for mailings entered at a DDU/SDC) or as required in a customer/supplier agreement. * * *

* * * * *

Notice 123 (Price List)

[Revise prices as applicable.]

* * * * *

Sarah Sullivan,
Attorney, Ethics and Legal Compliance.

[FR Doc. 2024-08028 Filed 4-15-24; 8:45 am]

BILLING CODE 7710-12-P